DEPARTMENT OF AGRICULTURE

Forest Service

36 CFR Part 294

RIN 0596-AC62

Special Areas; Roadless Area Conservation; Applicability to the National Forests in Idaho

AGENCY: Forest Service, USDA.

ACTION: Notice of proposed rulemaking; request for comment.

SUMMARY: The Forest Service, U.S. Department of Agriculture (USDA), is proposing to establish a State-specific rule to provide management direction for conserving and enhancing the roadless characteristics for designated roadless areas in Idaho. The agency is particularly interested in receiving public input regarding the following topics: to what extent should the Forest Service allow building roads for the purpose of conducting limited forest health activities in areas designated as backcountry; are the limitations on sale of common variety minerals and discretionary mineral leasing appropriate; and will the proposed mechanism for administrative corrections and modifications be sufficient to accommodate future adjustments necessary due to changed circumstances or public need?

DATES: Comments must be received in writing by April 7, 2008.

ADDRESSES: Comments may be sent via email to IDcomments@fsroadless.org. Comments also may be submitted via the world wide web/Internet at http://www.regulations.gov. Written comments concerning this notice should be addressed to Roadless Area Conservation-Idaho, P.O. Box 162909, Sacramento, CA 95816-2909, or via facsimile to 916-456-6724.

All comments, including names and addresses, when provided, are placed in the record and are available for public inspection and copying. The public may inspect comments received at http://roadless.fs.fed.us.

A copy of the draft environmental impact statement (DEIS), the DEIS summary, and other information related to this rulemaking is available at the national roadless Web site (http://www.roadless.fs.fed.us) as well as by calling the number listed below, under the “for further information” heading. Reviewers may request printed copies or compact disks of the DEIS and the summary by writing to the Rocky Mountain Research Station, Publication and Distribution, 240 West Prospect Road, Fort Collins, CO 80526-2098. Fax orders will be accepted at 970-498-1122. Order by e-mail from rschneider@fs.fed.us. When ordering, requesters must specify if they wish to receive the summary or full set of documents and if the material should be provided in print or on disk.

FOR FURTHER INFORMATION CONTACT: Brad Gilbert, Idaho Roadless Rule Team Leader, at (208) 765-7438. Individuals using telecommunication devices for the deaf (TDD) may call the Federal Information Relay Service (FIRS) at 1-800-877-8339 between 8 a.m. and 8 p.m. Eastern Standard Time, Monday through Friday.

SUPPLEMENTARY INFORMATION:

Background

As a leader in natural resource conservation, the Forest Service provides direction for the management and use of the Nation's forests, rangelands, and aquatic ecosystems. The Forest Service is charged to collaborate cooperatively with states, Tribes, and other interested parties regarding the use and management of the National Forest System (NFS).

State of Idaho Petition

On June 23, 2005, the State of Idaho (hereafter referred to as State) announced it would submit a petition pursuant to the State Petitions Rule (70 FR 25654), requesting specific regulatory protections and certain management flexibility for the approximately 9.3 million acres of NFS inventoried roadless areas in Idaho. As part of that announcement, the State invited affected county commissioners, Tribes, and members of the public to develop specific recommendations for the NFS inventoried roadless areas in their respective areas. Additionally, over 50 public meetings were held and the public was encouraged to send individual comments directly to the Governor's office for consideration.

Idaho's petition, under the State Petition Rule, was submitted to the Secretary of Agriculture for consideration on September 20, 2006. Subsequently, Idaho submitted a new petition on October 5, 2006, under section 553(e) of the Administrative Procedure Act and Department regulations at 7 CFR § 1.28. The Department has also received rulemaking petitions from the Nez Perce Tribe and other organizations and individuals requesting reinstatement of the 2001 rule.

The Roadless Area Conservation National Advisory Committee (RACNAC) (72 FR 13469) reviewed the Idaho petition on November 29 and 30, 2006, in Washington, DC. Governor James Risch, on behalf of the State of Idaho, discussed his views on the scope and intent of the petition during the first day of the meeting. The committee also heard comments from other State and Forest Service officials, and members of the public.

On December 19, 2006, the committee issued a unanimous consensus-based recommendation that the Secretary direct the Forest Service, with the State as a cooperating agency, to proceed with rulemaking.

On December 22, 2006, the Secretary accepted the petition based on the advisory committee's review and report, and directed the Forest Service to initiate rulemaking.

The USDA is committed to conserving and managing inventoried roadless areas. The Department considers the proposed rule the most appropriate solution to address the challenges of inventoried roadless area management on NFS lands in the State of Idaho. Additional information, maps, and other materials concerning the Idaho Roadless Areas, as well as other roadless areas, can be found at http://roadless.fs.fed.us/. Collaborating and cooperating with states and other interested parties regarding the long-term strategy for the conservation and management of inventoried roadless areas allows recognition of both national values and local situations.

The State of Idaho petition included specific information and recommendations for the management of individual inventoried roadless areas in the State. This site-specific knowledge provided by the State and its citizens aids the USDA and Forest Service in accomplishing their objectives and is reflected in this proposed rulemaking. Additionally, the State of Idaho examined roadless areas sharing boundaries or overlapping with neighboring states and determined the need to coordinate with Montana and Utah to insure consistency of management themes assigned to these inventoried roadless areas. Lastly, the Forest Service and the State anticipate collaborating on implementing this proposed rulemaking. This commitment is reflected in the Governor's Roadless Rule Implementation Commission (Idaho Executive Order 2006-43), which is charged with the responsibility of working with the Forest Service to accomplish collaborative implementation of this proposed rule. The Executive Order can be found on the State of Idaho's roadless Web site http://gov.idaho.gov/roadless_petition.htm.

National Forest System Land Inventories in Idaho

This rulemaking relies on the most recent inventory available for each national forest and grassland in the State to identify the inventoried roadless areas addressed by this rulemaking. Since 2001 the Agency has continued with forest plan revisions within Idaho and have continued to review and update their inventories using new technologies such as geographic information systems (GIS) providing better and more reliable data than was previously available., Therefore, the proposed rule is based on the most recent and reliable information available for land and resource management planning as well as using other assessments and the inventory contained in the 2000 Roadless Rule Final Environmental Impact Statement where that remained the best available information. Using these inventories, the Forest Service has identified 9.3 million acres of inventoried roadless areas that are the subject of this rulemaking.

Proposed Roadless Area Conservation Rule for Idaho

The Department believes this proposed Roadless Area Conservation Rule for Idaho represents a unique opportunity to resolve collaboratively and to provide certainty to the roadless issue in the State. First, the proposed rule enables the Forest Service to account for comments of those most affected or concerned about the contents of state-specific rulemaking. Second, it allows the Agency to consider the unique characteristics of each inventoried roadless area in the State. Third, it balances the integrity and natural beauty of these roadless areas with responsible stewardship.

During his presentation to the RACNAC, Governor Risch expressed the need for stewardship of Idaho Roadless Areas focusing on limited forest health activities. Clarifying what stewardship means is vital to understanding the petition and subsequent rulemaking. The proposed rule clarifies this by providing discretion for conducting activities that maintain forest health by reducing the significant risk of wildland fire (also known as wildfire) to communities, municipal water supplies, threatened and endangered species, and to protect ecosystem components in the same manner as provided in the Healthy Forests Restoration Act (HFRA). All project activity will be subject to appropriate National Environmental Policy Act (NEPA) compliance procedures and public comment opportunities.

The Department and the State believe a reduction in significant risk situations before they become imminent threats to local communities and water supplies can be better achieved by providing flexibility beyond the restrictions imposed by the January 12, 2001 Roadless Area Conservation final rule (2001 rule) (66 FR 3244). Implementing these limited, but necessary projects allows the Forest Service to be a good neighbor for adjacent landowners and communities and to help insure continued forest health and protection for life and property.

The Forest Service, in cooperation with the State, has completed a review of the social, economic, and environmental characteristics and values associated with the inventoried roadless areas in the State. With public input, the Agency has considered the question of how these roadless lands should be managed within the scope of the Agency's authority. Consistent with the 2001 rule's approach, the management direction proposed by these regulations would take precedence over any inconsistent regulatory provision or land and resource management plan. It is also consistent with the Secretary's authority to establish regulations to carry out the statutory requirements for planning and the Forest Service's practice that forest plans must yield to management direction of a higher order. Forest plan management direction that is consistent with these provisions remains intact and effective.

Discussion of the Proposed Management Themes

The management themes described in Idaho's petition and reflected in Governor Risch's presentation before the RACNAC represent the foundation for this rulemaking, and are imperative to understanding the proposed rule. The proposed rule is structured around five themes: (1) Wild Land Recreation; (2) Special Areas of Historic or Tribal Significance; (3) Primitive; (4) Backcountry/Restoration; and (5) General Forest, Rangeland, and Grassland. These five themes were developed and refined through review of the existing and draft management prescriptions in each of Idaho's national forests.

Specifically, the proposed themes span a continuum (see Figure 1) that includes at one end, a restrictive approach emphasizing passive management and natural restoration, and on the other end, active management designed to accomplish sustainable forest, rangeland, and grassland management. This continuum accounts for stewardship of each roadless area's unique landscape and the quality of roadless characteristics in that area.

Allocation to a specific theme is not intended to mandate or direct the Forest Service to propose or implement any action; rather, the themes provide an array of permitted and prohibited activities regarding road construction, discretionary mineral activities, and timber cutting. The themes also serve as a reference point for future discussions between the Forest Service, the State, the Tribes, and the public. Themes may also influence other future management choices such as forest plan revisions or use determinations that are beyond the scope of these regulations.

The State's petition identifies approximately 345,000 acres of roadless areas that are already part of other land classification systems (for example, Research Natural Areas) that are governed by specific agency directives and existing forest plan direction. The petition did not request the Forest Service impose additional or superseding management direction or restrictions for these forest plan special areas. Instead, the State identified a preference that these lands be administered under the laws, regulations, and other management direction unique to the special purpose of the applicable land classification. These lands are included in § 294.28 for the sake of completeness; however, the proposed rule does not recommend management direction for those lands.

The following describes the current and desired conditions for each management theme. While the ability of the Forest Service to conduct certain activities (road building, activities associated with mineral development, and timber cutting) typically varies from theme-to-theme, other activities (motorized travel, grazing activities, or use of motorized equipment and mechanical transport) are not changed by this proposed rule. While these other activities are not regulated by this proposed rule, such activities would be subject to future planning and decisionmaking processes of the Forest Service. Furthermore, when appropriate, wildland fire and prescribed fire are tools which would be available across all themes. Additionally, like the 2001 rule, timber cutting, sale, or removal in inventoried roadless areas is permitted when incidental to implementation of a management activity not otherwise prohibited by this proposed rule. Examples of these activities include, but are not limited to, trail construction or maintenance; removal of hazard trees adjacent to forest roads for public health and safety reasons; fire line construction for wildland fire suppression or control of prescribed fire; survey and maintenance of property boundaries; other authorized activities such as ski runs and utility corridors; or for road construction and reconstruction where allowed by this proposed rule.

Management Theme 1: Wild Land Recreation (WLR)

Current Condition: WLR areas were generally identified during the forest planning process as recommended for wilderness designation. These areas show little evidence of historic or human use. Natural conditions and processes are predominant. People visiting these areas can find outstanding opportunities for solitude and challenge.

Desired Condition: WLR areas show little evidence of human-caused disturbance and natural conditions and processes are predominant.

Management Theme 2: Special Areas of Historic or Tribal Significance (SAHTS)

Current Condition: SAHTS are relatively undisturbed by human management activities, and natural conditions and processes are predominant. This theme consists of three areas: (1) Pilot Knob (#849), Nez Perce National Forest; (2) Nimiipuu and Lewis and Clark National Historic Trials, which includes portions of Bighorn-Weitas (#306), Eldorado Creek (#312), Hoodoo (#301), North Lochsa Slope (#307), Weir-Post Office (#308), Clearwater National Forest; and (3) Pioneer Area—Mallard-Larkins (#300), Idaho Panhandle National Forest. The Nez Perce Tribe and others expressed the desire to protect these areas specifically based on their historic or Tribal significance. The RACNAC recommended clarifying whether this theme would alter or apply to the management of other “special areas” embedded in roadless areas in individual forest plans (such as, Wilderness Study Areas, Recommended and/or Designated Scenic, Wild, and Recreational Rivers, Research Natural Areas). Those areas will not be subject to this proposed rule and will continue to be managed by individual forest plan direction or specific congressional direction provided by statute.

Desired Condition: SAHTS will continue to be relatively undisturbed by human management activities in order to maintain their unique Tribal or historic characteristics.

Management Theme 3: Primitive

Current Condition: The current condition of areas designated as primitive generally reflects the undeveloped character described for the WLR theme. However, these areas generally fall short of the Forest Service's recommended wilderness suitability criteria.

Desired Condition: Primitive areas are relatively undisturbed by human management activities while allowing for limited forest health activities including preserving biological strongholds for a variety of species and protecting ecological integrity.

Management Theme 4: Backcountry/Restoration (Backcountry)

Current Condition: Areas designated as backcountry generally reflect the undeveloped character found in all roadless areas. However, there may be portions within these areas that have evidence of human use and occupancy or past vegetation manipulation.

Desired Condition: Backcountry areas are managed to retain their undeveloped character, while providing a variety of recreation opportunities and allowing for limited forest health activities including preserving biological strongholds for a variety of species and maintaining or restoring the characteristics of ecosystem composition and structure.

Management Theme 5: General Forest, Rangeland, and Grassland (GFRG)

Current Condition: Areas designated as GFRG include locations that may display relatively more evidence of human use, including roads, facilities, evidence of vegetative manipulation, and mineral exploration/extraction.

Desired Condition: GFRG areas are managed to allow for a variety of goods and services, and conservation of natural resources.

Geothermal Energy

During the development of the proposed rule, consideration was given to whether the rule is overly restrictive regarding potential exploration and/or development of geothermal energy resources in areas designated as backcountry. While Idaho has high geothermal energy potential, site-specific information on this resource in Idaho Roadless Areas is currently limited (see discussion in DEIS). At this time the Department has chosen not to include a special exemption for geothermal energy resources.

The Department expects that more information about this energy resource will become available over the next 5 to 10 years. Once additional information becomes available, at that point, if necessary, the State or other parties can seek a change in the rule's restrictions. A site-specific modification to the rule could then be proposed and reviewed under § 294.27(e)(2).

Specific Request for Public Comment

With regard to road construction, discretionary mineral activities, and timber cutting, Idaho's proposed management continuum can be succinctly summarized as three themes; one theme more restrictive than the 2001 rule, one theme similar to the 2001 rule, and one theme less restrictive than the 2001 rule. The agency is particularly interested in receiving public input regarding the following topics: (1) To what extent should the Forest Service allow building roads for the purpose of conducting limited forest health activities in areas designated as backcountry; (2) are the limitations on sale of common variety minerals and discretionary mineral leasing appropriate; and (3) will the proposed mechanism for administrative corrections and modifications be sufficient to accommodate future adjustments necessary due to changed circumstances or public need? The following illustrates the additions and/or changes from the 2001 rule.

Limited Roads for Activities in Backcountry

The proposed regulation at § 294.23(b)(1)(i) allows limited road construction in Idaho Roadless Areas designated to be managed pursuant to the backcountry theme when a “road is needed to protect public health and safety in cases of significant risk or imminent threat of flood, wildland fire, or other catastrophic event that, without intervention, would cause the loss of life or property; or to facilitate forest health activities permitted under § 294.25(c)(1).” The phrase “significant risk” is an addition to the imminent threat language contained in the 2001 rule's exceptions and bears further explanation.

During its presentation to the RACNAC, the State was under the impression that the “imminent threat” exception provides the needed flexibility to allow the Forest Service to build roads for the purpose of conducting what Governor Risch and other State representatives identified as “stewardship activities.” An example of such an activity would be a fuel treatment project to protect a municipal water supply system conducted cooperatively with the Forest Service through the Healthy Forests Restoration Act (HFRA) (Pub. L. 108-148). However, when read in context of the 2001 rule's preamble language, the application of the “imminent threat” regulatory language may not always achieve the State's desire for more progress toward the congressional goals identified in HFRA.

Referring to the “imminent threat” language, the preamble to the 2001 rule stated that the exception “does not constitute permission to engage in routine forest health activities, such as temporary road construction for thinning to reduce mortality due to insect and disease infestation” (66 FR 3243, 3255). Like the 2001 rule, the Forest Service and State do not intend this change in language to be construed as giving permission to build roads in areas designated as backcountry for the purpose of engaging in routine forest management activities as shown by the use of the words “significant risk.” This addition is intended to provide additional flexibility where site-specific conditions pose a significant risk of wildland fire.

Although the principal objective for this adjustment is to protect at-risk communities and municipal water supply systems from adverse effects of wildland fire, this provision also contemplates access for (1) areas where wind throw, blowdown, ice storm damage, or the existence or imminent threat of an insect or disease epidemic is significantly threatening ecosystem components or resource values that may contribute to significant risk of wildland fire; or (2) areas where wildland fire poses a threat to, and where the natural fire regimes are important for, threatened and endangered species or their habitat consistent with HFRA.

The proposed rule is programmatic in nature, establishing the types of prohibitions and conditions where future projects may occur under the appropriate theme. As stated by Governor Risch, this proposed rule “does not cut one tree or plow one road.” Further, not every acre experiencing significant risk is expected to receive treatment because of funding limitations and mitigation measures needed for other resource protection. After the rule becomes effective, site-specific proposed projects must still undergo project planning procedures before they can be implemented. This includes compliance with HFRA (if applicable), National Environmental Policy Act (NEPA), National Forest Management Act (NFMA), the Endangered Species Act (ESA), and other environmental laws and regulations. Public involvement under NEPA will be undertaken for these site-specific proposals.

The Idaho Roadless Rule DEIS discloses the effects of roads and projections of the types and amounts of possible treatments over the next 15 years. Treatments will be designed based on site-specific needs to reduce any significant risks, or to maintain or restore the characteristics of ecosystem composition and structure. Determination of a significant risk would be guided by the interagency Healthy Forests Initiative and Healthy Forests Restoration Act: Interim Field Guide (2004).

Mineral Activities

The laws governing disposal of Federal minerals on NFS lands are complex. Responsibility for management of these resources is often shared between USDA and the Department of the Interior (DOI). Generally speaking, Federal minerals are divided into three categories with different legal authorities, responsibilities, and controls applying in each instance. The three basic systems are: locatable, saleable, and leasable minerals.

Locatable minerals are generally metals (like gold and silver) but also include rare earth elements such as uranium and special uncommon varieties of sand, stone, gravel, pumice, pumicite, and cinders. Development of such minerals is subject to the General Mining Law of 1872. Like the 2001 rule, this proposed rule does not seek to impose any limits regarding activities undertaken regarding locatable minerals. In the long term, it is reasonable to assume that future exploration, mining, and mineral processing activities would continue to occur in Idaho Roadless Areas where valuable deposits exist. When necessary, construction or reconstruction of roads for locatable mineral exploration or development is part of the reasonable right of access provided under the General Mining Law. Therefore, this rule does not propose to affect rights of reasonable access to prospect and explore lands open to mineral entry and develop valid claims. All proposals for locatable mineral exploration or development are subject to the planning and design requirements governing locatable minerals in 36 CFR part 228, subpart A and the appropriate level of environmental analysis. The plan of operations would be approved subject to modifications identified in the environmental analysis and would be binding on the operator.

Saleable minerals, also known as common variety mineral materials, are common varieties of sand, stone, gravel, pumice, pumicite, cinders, and clay. The Secretary of Agriculture is solely responsible for disposal of saleable minerals on NFS lands. The Forest Service has complete discretion to refrain from authorizing the disposal of saleable minerals.

The proposed rule would prohibit the sale of common variety mineral materials in Idaho Roadless Areas that are designated to be managed pursuant to WLR, SAHTS, or primitive themes. This prohibition would be more restrictive than the 2001 rule for these three themes. However, under the proposed § 294.23(b)(1)(vii), the Forest Service would be allowed to build roads associated with the sale or administrative use of common variety mineral materials in areas designated as backcountry “if the use of these mineral materials is incidental to an activity otherwise allowed under the rule” (§ 294.24(e)). Road construction and reconstruction associated with the sale or administrative use of common variety mineral materials is allowed in GFRG.

Leasable minerals include oil, gas, coal, phosphate, potassium, sodium, sulphur, gilsonite, oil shale, geothermal resources, and hardrock minerals. There are two general umbrella authorities governing the leasing of these minerals, except for sulphur, geothermal resources, and hardrock minerals, on NFS lands. One of these umbrella authorities, the Mineral Leasing Act of 1920, applies exclusively, and by its terms applies comprehensively, to NFS lands reserved from the public domain. The other, the Mineral Leasing Act for Acquired Lands, applies exclusively, and by its terms applies comprehensively, to acquired NFS lands. The leasing of geothermal resources is governed by free standing statutory authority which applies to all NFS lands. Collectively, these authorities are known as the mineral leasing laws.

Despite the many authorities governing mineral leasing on NFS lands, there are basic commonalties among the mineral leasing laws. The most fundamental is that the Secretary of the Interior is statutorily charged with the administration of the mineral leasing laws. Consequently, the Department of the Interior (DOI) issues all mineral leases for NFS lands. The Secretary of the Interior also has complete discretion to refrain from leasing any leasable mineral.

This is not to say that the Forest Service lacks a role with respect to mineral leasing on NFS lands. DOI is statutorily required to obtain the Forest Service's consent before it issues leases for many leasable minerals. The Forest Service also has the right to regulate operations conducted for certain leasable minerals.

The proposed rule would not seek to restrict retroactively any existing authorizations. The proposed rule would establish limitations on the future exercise of discretion available to Forest Service line officers. It does not impose restrictions on decisions that Congress has allocated to DOI. Nor does the proposed rule effect or seek a withdrawal of the mineral estate as such matters are subject to a separate statutory process established under the Federal Land Policy Management Act. Instead, the proposed rule would instruct Forest Service line officers when exercising their discretionary authority concerning disposal of different mineral materials.

The Forest Service and State see an opportunity to clarify and remove confusion regarding expectations for mineral leasing and associated road construction activities across the management themes set out in this proposed rule. This is a refinement of the 2001 rule which permitted the leasing and the surface use or occupancy across all roadless areas, but did not allow new roads to be constructed pursuant to new leases. Using the management spectrum associated with the proposed themes, the Forest Service and the State are seeking a balance between the protection of roadless values and the responsible development of mineral resources.

If promulgated, in designated WLR, SAHTS, or primitive areas, the Forest Service would not recommend, authorize or consent to road construction or reconstruction or surface use and occupancy associated with mineral leases. This leasing restriction is more restrictive than the 2001 rule.

In backcountry areas, road construction or reconstruction is prohibited except for the leasing of phosphate materials. Surface use or occupancy without road construction or reconstruction is permissible for all mineral leasing.

In areas designated as GFRG, leasing approvals, including road construction, reconstruction, surface use and occupancy, and associated road access requests are permissible.

Where authorized, all road construction or reconstruction associated with mining activities allowed under this management theme must be conducted in a way that minimizes effects on surface resources, prevents unnecessary or unreasonable surface disturbance, and complies with all applicable lease requirements, land and resource management plan direction, regulations, and laws. Roads constructed or reconstructed pursuant to this management theme must be decommissioned when no longer needed or when the lease, contract, or permit expires, whichever is sooner.

There has been considerable debate among various parties offering competing interpretations of the 2001 rule provisions about whether or not ongoing leasing activities can be geographically expanded beyond current lease boundaries; particularly phosphate leasing in the Caribou-Targhee National Forest. The proposed rule contains text at § 294.24(d) that resolves this question in the affirmative. At the effective date of a final rule, existing operations could expand beyond their current boundaries, including such lands as are necessary for access. The DEIS estimates an additional 12,100 acres above the acres under existing lease will potentially be affected. The DEIS also discusses the importance and value of this phosphate leasing to the local communities, the State, and the Nation.

Accommodating Change

The Forest Service, State of Idaho, and members of the public have expressed confusion over how boundary or other changes were expected to be made under the 2001 rule. The State of Colorado in its roadless area rulemaking petition similarly identified the need for a process to allow future modifications of the management direction to be established in that rulemaking. Based on Forest Service experience with the 2001 rule, as well as other land and resource management and classification systems, the Agency has included in the proposed rule a system to address future corrections and modifications of the allocations made through this rulemaking. The Forest Service is proposing a system that parallels the National Forest Management Act forest plan amendment process, allowing for technical corrections as well as minor or even significant changes. All changes are noticed to the public and public involvement requirements vary depending on the magnitude of the change being made.

The proposed rule applies a two tiered approach. Like the 2001 rule, § 294.27(e)(1) expressly provides that technical errors, such as clerical mistakes, errant maps, and so on, can be corrected by the Chief and are effective upon public notice. This provision could also be applied when changes are necessitated by events beyond the scope of this proposed rule, such as Congressional legislation or a conveyance of land by sale, exchange or interchange.

The second tier of the approach involves a mechanism for modifying boundaries or management direction in other circumstances. The Department believes the proposed rule should allow for changes in management direction due to changed conditions or circumstances. Any modification would be effective only after the Chief provides public notice in the Federal Register. Modifications would be subject to a 30-day notice requirement in all instances; and if the change is determined to be significant by the Chief, notice and comment rulemaking must be undertaken.

The proposed rule provides factors to assess whether a proposed change is of sufficient magnitude to warrant additional rulemaking or so limited as to not merit such a procedure. This is an admittedly subjective assessment and the expectation is that the Agency will keep foremost in its mind the implications of the change to the roadless character of the area(s). Again, the Forest Service has implemented a similar sliding scale approach for amendment of forest plans for three decades and is confident such a system is workable.

Examples of when rulemaking would not be expected: (1) Establishment by the Forest Service of a research natural area in a roadless area designated as primitive; (2) changing the designation of a small portion of backcountry adjacent to a large block of GFRG into the GFRG designation; (3) changing the designation of a small portion of backcountry adjacent to a large block of primitive into the primitive designation.

Examples where rulemaking would be expected: (1) Approving the use of lands designated as primitive to construct and operate an all-season recreation resort complex; (2) geothermal exploration has discovered a significant energy field in an area designated as primitive and the Forest Service proposes that a portion of the roadless area be designated as GFRG to allow development and transmission line corridors; (3) during a forest plan revision the Forest Service recommends two primitive areas for wilderness designation; therefore, the Agency proposes their designations be changed to WLR.

The Department does not anticipate extensive adjustments will occur under this provision. The provision would provide public confidence that if adjustments need to be considered, the process will be both open to and understood by all interested parties.

Conclusion

The USDA, Forest Service, and the State of Idaho are committed to conserving and managing Idaho Roadless Areas under the context of the Agency's multiple-use mandate and consider roadless areas an important component of the NFS. The Department, Agency, and State believe that establishing a state-specific rule, based on the petition submitted by the State, allows state-specific consideration of the needs of these areas and is an appropriate solution to address the challenges of managing Idaho Roadless Areas.

Collaborating with the State on the long-term strategy for the management of Idaho Roadless Areas allows for the recognition of national values and local situations and resolution of unique resource management challenges. Collaboration with others who have a strong interest in the conservation and management of inventoried roadless areas will also help to ensure balanced management decisions that maintain the most important characteristics and values of those areas.

The proposed rule envisions a sliding scale of designating themes for the management of Idaho Roadless Areas. From most restrictive to least restrictive, the themes are Wild Land Recreation; Special Areas of Historic or Tribal Significance; Primitive; Backcountry/Restoration; and General Forest, Rangeland, and Grassland. Prohibitions with exceptions or permissions with conditions for road construction, discretionary mineral development, and timber cutting are proposed for each theme.

USDA invites written comments on both the proposed rule and the draft environmental impact statement and will consider those comments in developing the final rule and final environmental impact statement. The final rule will be published in the Federal Register.

Regulatory Certifications

Regulatory Planning and Review

This proposed rule was reviewed under USDA procedures, Executive Order 12866 issued September 30, 1993 (E.O. 12866), as amended by E.O. 13422 on Regulatory Planning and Review, and the major rule provisions of the Small Business Regulatory Enforcement and Fairness Act (5 U.S.C. 800). It has been determined that this proposed rule is not an economically significant rule. This proposed rule will not have an annual effect of $100 million or more on the economy nor adversely affect productivity, competition, jobs, the environment, public health or safety, nor state or local governments. This proposed rule is not expected to interfere with an action taken or planned by another agency nor raise new legal or policy issues. This proposed rule will not alter the budgetary impact of entitlements, grants, user fees, or loan programs or the rights and obligations of recipients of such programs. However, due to the level of interest in inventoried roadless areas management, this proposed rule has been designated as significant and is therefore subject to Office of Management and Budget review under E.O. 13422.

A regulatory impact analysis has been prepared for this proposed rule. The benefits, costs, and distributional effects of three alternatives referred to as follows: 2001 Roadless Rule (2001 rule), existing forest plans (existing plans), and the Idaho State Petition (proposed rule) are analyzed over a 15-year time period. As of the printing of this proposed rule, the 2001 rule is in operation by court order and represents the legal status quo. In absence of the 2001 rule, management would be governed by existing plans and agency interim direction. As such, for the purpose of regulatory impact analysis, the 2001 rule and existing forest plans are assumed to represent a range of baseline conditions or goods and services provided by national forests and grasslands in the near future in the absence of the proposed rule.

The proposed rule is programmatic in nature, consisting of direction for road construction, road reconstruction, timber cutting, and discretionary mineral activities, which would be applied to future management activities in Idaho Roadless Areas. The purpose of the proposed rule is to provide State-specific direction for the conservation and management of inventoried roadless areas within the State. The proposed rule integrates local management concerns with the national objectives for protecting roadless area values and characteristics.

The proposed rule would establish five management themes to clarify direction within Idaho Roadless Areas in contrast to the single management strategy assigned to all Idaho Roadless Areas under the 2001 rule. The five themes are Wild Land Recreation (WLR), Primitive, Special Areas of Heritage and Tribal Significance (SAHTS), Backcountry/Restoration (backcountry), and General Forest, Rangeland, and Grassland (GFRG). Management direction under the 2001 rule is most similar to the backcountry/ restoration theme under the proposed rule. The proposed rule does not prescribe site-specific activities on the ground, nor does it irreversibly commit resources. Direct effects of site-specific activities would be disclosed through NEPA project-level analysis when site-specific decisions are made.

In general, the proposed rule does not affect the efficiency of individual operations or activities (such as, an individual timber sale) associated with forest resources and/or services, but may instead affect the number or extent of opportunities as a function of activities permitted within Idaho Roadless Areas on NFS lands. Because the proposed rule does not prescribe site-specific activities, it is difficult to quantify the benefits of the alternatives. It should also be emphasized that the types of benefits derived from roadless characteristics and the uses of roadless areas are far ranging and include a number of non-market and non-use benefit categories. Consequently, benefits are not monetized, nor are net present values or benefit cost ratios estimated. Instead, increases and/or losses in benefits are discussed separately for each resource area in a quantitative or qualitative manner. Benefits and costs are organized and discussed in the context of `local resource concerns' and `roadless characteristics' in an effort to remain consistent with overall purpose of the proposed rule, recognizing that benefits associated with local concerns may trigger indirect benefits in roadless characteristics in some cases (such as, forest health). Table 1 summarizes the potential benefits and costs of the proposed rule, the 2001 roadless rule, and existing plan alternatives.

Distributional effects or economic impacts, in terms of jobs and labor income, are quantified for five economic areas (EAs) for the State using regional impact models (IMPLAN). Economic impacts are evaluated only for changes in activities directly affected by the proposed rule (timber cutting, minerals extraction, and road construction and reconstruction). Distributional effects are also discussed in relation to revenue sharing, small entities, and to the resource dependent communities (counties) most likely to be affected by the proposed rule. Table 2 summarizes distributional effects and economic impacts of the proposed rule and alternatives.

Details about the environmental effects of the proposed rule can be found in the Roadless Area Conservation; National Forest System Lands in Idaho Draft Environmental Impact Statement (DEIS). Effects on opportunities for small entities under the proposed rule are discussed in the context of Executive Order 13272 regarding proper consideration of small entities and the Small Business Regulatory Enforcement Fairness Act of 1996 (SBREFA), which amended the Regulatory Flexibility Act (5 U.S.C. 601, et seq.).

Local Resource Concerns

Local resource concerns include ensuring access, protecting communities, property, and resources from risk of wildfire; as well as protecting forests from the adverse effects of wildfire, insects, and disease.

Approximately 1.4 million acres within Idaho Roadless Areas are estimated to be at risk of 25% or more tree mortality (that is, high risk) over the next 15 years. Of the 1.4 million acres at risk, approximately 26,000 acres are within the GFRG and 939,000 acres in the backcountry theme under the proposed rule. The areas identified within the GFRG theme would have the most potential to be treated given their treatment flexibility. Timber cutting in the backcountry theme would be done on a limited basis and would be done to retain roadless characteristics. Under existing plans, the high-risk acreage assigned to the GRFG theme increases to 190,000 acres while 730,000 acres are assigned to backcountry. Existing plans provide flexible opportunities to treat high-risk acres through timber cutting on lands assigned to both of these themes without constraints associated with roadless characteristic retention. Projected levels of treatment, involving timber cutting, are greatest under existing plans (2,800 acres per year; 42,000 acres over 15 years) followed by the proposed rule (800 acres per year; 12,000 acres over 15 years). Treatments associated with projected harvests over the next 15 years are likely to be effective in reducing the risks from insects and disease in areas treated.

Timber cutting associated with treatments are estimated to be 0.5 million board feet (MMBF), 14 MMBF, and 4 MMBF per year for the 2001 rule, existing plans, and the proposed rule respectively and account for 0.5%, 11.5%, and 3% of average annual harvests from National Forest land in Idaho. A majority of the volume under the proposed rule is projected to occur within the northern economic area (EA).

Approximately 1 million acres of Idaho Roadless Areas are within the wildland urban interface (WUI), and about 40% of those acres (450,000) are in high priority fire risk areas as defined by fire regime and condition class. Opportunities to use a full range of treatment methods to address severe wildfire risk, particularly within the WUI, are substantially greater under the proposed rule relative to the 2001 rule. Treatment flexibility expands only slightly under the proposed rule compared to existing plans. Approximately 71% of WUI acreage within Idaho Roadless Areas is assigned to management themes that permit flexible treatment methods that include road construction under the proposed rule, compared to 69% under existing plans. However, fewer overall acres are projected for treatment under the proposed rule due to other constraints (such as, maintenance of roadless characteristics). Projected harvests could treat the equivalent of approximately 5% of high priority areas within the WUI under the proposed rule over a 15-year period. In contrast, approximately 14% of high priority WUI areas could be treated under existing plans. An insignificant amount of high priority WUI acreage would be treated under the 2001 rule.

Phosphate mining activity on existing leases will be similar across the alternatives over the next 15 years. However, 12,100 acres of unleased known phosphate reserves within Idaho Roadless Areas will be made available for future leasing or lease expansion under the proposed rule that would not be accessible under the 2001 rule. Mining in these areas could generate an estimated 545 million tons of phosphate ore, but development of these areas is expected to occur over an extended period (50+ years). All unleased areas with known phosphate reserves (approximately 13,400 acres; estimated 603 million tons) will be available for leasing over an extended period under existing plans.

There are negligible opportunities for geothermal development under the 2001 rule. Geothermal opportunities increase under the proposed rule where 233,600 acres of high geothermal potential, on land with feasible slopes, are made available because of GFRG theme assignments. These opportunities increase slightly under existing plans to 249,500 acres. The existing plans provide for greater development opportunities in areas of medium geothermal potential with feasible slopes (457,700 acres) compared to the proposed rule (140,800 acres). There are currently no existing geothermal leases on National Forest land in Idaho.

The proposed rule is not expected to have a significant impact on other local resource issues or concerns including livestock grazing, saleable minerals, other leasable minerals (oil, gas, and coal), locatable minerals, or energy corridors.

Roadless Characteristics

Roadless characteristics include high quality soil, water (including drinking water), and air; plant and animal diversity; habitat for sensitive species; reference landscapes and high scenic quality; primitive and semi-primitive recreation; cultural resources; and other locally identified unique characteristics. Shifts in the number of roadless area acres assigned to more permissive management themes can increase the potential for adverse effects to roadless characteristics. However, reasonably foreseeable effects in the next 15 years are likely to be limited by levels of road construction/reconstruction, timber cutting, and leasable minerals activity actually projected to occur during that time.

Based on the relative acreage assigned to different management themes, the proposed rule creates greater potential for reductions in scenic integrity compared to the 2001 rule but lower potential relative to existing plans. The proposed rule assigns 5.5 million acres to management themes (GFRG, backcountry) that permit activities that could trigger moderate reductions in scenic integrity. Theme assignments under existing plans create potential for triggering similar integrity reductions on 5.9 million acres. Potential reductions would be moderated under the backcountry theme due to more restrictive management requirements relative to GFRG. There is little potential for reductions in scenic integrity under the 2001 rule. Reasonably foreseeable reductions in scenic integrity from timber cutting are limited to those resulting from projected harvest levels. Foreseeable reductions in scenic integrity from high to low levels from long-term development (50+ years) of unleased phosphate reserves are similar for the proposed rule (12,100 acres) and existing plans (13,400 acres) and confined to the Caribou Targhee National Forest. Reductions in scenic integrity associated with development of existing phosphate leases are similar across the three alternatives.

The proposed rule does not directly affect wilderness designations in the context of the National Wilderness Preservation System, but the changes in activities permitted within Idaho Roadless Areas under the proposed rule have the potential to affect the degree to which Idaho Roadless Areas are considered for future wilderness designation. Reductions in wilderness characteristics are most likely to occur in areas assigned to the GFRG theme (1.262 million acres under existing plans; 609,500 acres under the proposed rule). Activities may not change wilderness characteristics if the effects of prior activities are still evident within GFRG areas. Acreage recommended for wilderness increases from 1,320,900 under existing plans (that is, current wilderness recommendations) to 1,378,600 under the proposed rule, primarily through assignment of areas to the wild land recreation theme. A vast majority of acreage is likely to retain existing wilderness characteristics under the 2001 rule, and no changes occur regarding recommended wilderness under the 2001 rule.

No measurable differences in dispersed recreation opportunities are expected across alternatives. Losses in dispersed recreation associated with development of existing phosphate leases are equal for all alternatives; development of future leases will affect opportunities but not within 15 years (that is, >50 years). Perceptions of remoteness and solitude may be affected in dispersed recreation areas where timber cutting and road construction occur, but effects are constrained by projected levels of these activities.

Opportunities for developed recreation are limited under the proposed rule but increase to some extent under existing plans, though reasonably foreseeable development is minimal. Opportunities for maintaining dispersed recreation opportunities are high under the 2001 rule, with little potential for increases in developed recreation opportunities. Concerns about access and designations for motorized versus non-motorized recreation were raised in comments during scoping, however, the proposed rule does not provide direction on where and when off highway vehicle (OHV) use would be permissible and makes clear that travel planning-related actions should be addressed through travel management planning and individual forest plans.

The potential for adverse effects to plant, wildlife, and aquatic species and habitat is lower under the proposed rule, compared to existing plans due to fewer acres assigned to more permissive themes. However, reasonably foreseeable effects are constrained by projected levels of road construction/reconstruction, timber cutting, and leasable minerals activity over the next 15 years. Acreage assigned to wild land, primitive, and SAHTS themes should have a beneficial effect on sensitive species and habitat. Acreage under these themes contains 289 occurrences of known sensitive plant populations (out of a total of 666) compared to 293 occurrences on similar themes under existing plans. The management prescriptions under the 2001 rule are likely to have beneficial effects on sensitive species, as well as biodiversity.

Road building associated with timber cutting will have a negligible effect on high hazard soils under all alternatives. Road building is likely to affect high hazard soils in areas associated with existing phosphate leases but effects are equivalent across alternatives. Similar effects associated with future leases are possible but not likely to occur within the next 15 years under the proposed rule and existing plans (future leases are not feasible under the 2001 rule).

The proposed rule is expected to have negligible adverse effects on other resources associated with roadless characteristics including cultural resources, air, water, climate change, non-timber products, and outfitter and guide opportunities based on reasonably foreseeable activity projections. Any adverse impacts to these resources and services would be addressed through analysis conducted in accordance with NEPA and minimized through compliance with forest plan guidelines.

Agency Costs and Revenues

Agency costs and revenues are summarized in Table 1. Aggregate timber program costs under the proposed rule are expected to be greater than costs under the 2001 rule and lower than costs under existing plans when considering projected levels of timber cutting. Treatment costs per acre are expected to be lower under the proposed rule and existing plans compared to the 2001 rule due to greater flexibility regarding treatment methods under the GFRG theme. Greater acreage assigned to GFRG under existing plans implies potential for some gains in treatment cost effectiveness relative to the proposed rule. Lower costs imply greater capacity for generating viable sales and positive net revenues for a given project. Net revenues may increase under the proposed rule relative to the 2001 rule, primarily for the Idaho Panhandle NF and the Northern economic area (EA) based on projected levels of timber cutting. However, net revenues may decrease under the proposed rule when compared to revenues generated by projected timber cutting under existing plans for the Idaho Panhandle, Clearwater, and Nez Perce National Forests.

Projected total miles of new roads (constructed and reconstructed) are 15, 180, and 60 miles over the next 15 years under the 2001 rule, existing plans, and the proposed rule respectively. Today, approximately 1,800 miles of roads (include forest, other public, private, and unauthorized roads) exist on 5% of the land within Idaho Roadless Areas. Agency costs related to roads (e.g., administration, planning, maintenance) are not likely to change significantly under the proposed rule based on projected construction/reconstruction levels, and due to the types of roads constructed (such as, temporary, single-purpose).

Distributional Effects

The distributional effects of the proposed rule are quantified for reasonably foreseeable levels of timber cutting and road construction projected to occur over the next 15 years (see Table 2). The majority of employment and income impacts are projected to occur in the southeastern EA (due to leasable minerals), the northern EA (due to timber cutting), and to some extent in the central EA. Predicted amounts of phosphate output from Idaho Roadless Areas are not expected to differ across alternatives over the next 15 years, implying that jobs and labor income contributed by phosphate activities are constant across alternatives.

Phosphate mining on existing leases is estimated to contribute the greatest number of jobs and income, but jobs from this sector will not differ by alternative. Timber cutting is primarily responsible for differences in jobs and income across alternatives. Projected harvest and accompanying road construction under the proposed rule is estimated to contribute an additional 80 jobs and $1.6 million in income per year, relative to conditions under the 2001 rule. These changes are expected to occur in the northern (Idaho Panhandle NF) and southeastern (Caribou/Targhee NF) economic areas. In contrast, annual employment and income are estimated to be lower under the proposed rule compared to existing plans by 221 jobs and $6 million in labor income. These effects are likely to occur within the northern, southeastern, and central (Clearwater NF) economic areas.

Timber-dependent counties where changes in harvest opportunities and corresponding jobs and income may have the most significant impact on local economies are identified by economic area. Nine counties are identified for the northern EA, while five such counties are located in the central EA, one of which is located in the State of Washington. One additional county is located in the southeastern EA. Little or no potential for adverse impacts to the local economy is predicted for these counties under the proposed rule relative to the 2001 rule, but some potential for adverse impacts exists compared to existing plans.

Payments to counties are expected to remain the same under all alternatives as long as the Secure Rural Schools and Community Self-Determination Act (SRSA) remains in effect. If SRSA is allowed to lapse, the timber-dependent counties noted above are likely to experience the greatest loss. Mineral-based payments to states are a function of receipts from leasable minerals, including receipts from phosphate operations, but no differences in phosphate production are projected across alternatives.

Table 1.—Summary of Net Benefits of the Proposed Rule and Alternatives
Category | 2001 Roadless rule | Existing plans | Proposed rule
LOCAL RESOURCE CONCERNS
Forest Health
Insects and Disease | Most of the 1.4 million acres currently at risk of 25% mortality or significant growth loss will remain untreated | Opportunities for treatment under GFRG and backcountry themes: • 190,000 acres of high risk (9) forest assigned to GFRG • 730,000 acres of high risk forest assigned to backcountry | Opportunities for treatment under GFRG and backcountry themes: • 26,000 acres of high risk (9) forest assigned to GFRG. • 940,000 acres of high risk forest assigned to backcountry.
|  | Projected treatments on 42,000 acres likely to be effective over 15 years | Backcountry treatments must be for forest health and/or hazardous fuels reductions, and retain roadless characteristics.
|  |  | Projected treatments on 12,000 acres likely to be effective over 15 years.
Noxious Weeds | Spreading is unlikely given limited potential for soil disturbance. 28,000 acres of weeds currently found in Idaho Roadless Areas | Some potential for spreading based on acreage assigned to GFRG (1.262 million); the limited degree of projected road construction, timber cutting, and mineral activity will minimize the potential for spreading. 8,300 acres of weeds currently found in GFRG | Some potential for spreading based on acreage assigned to GFRG (609,500 acres); the limited degree of projected construction, harvest and mineral activity would minimize the potential for spreading. 2,600 acres of noxious weeds currently found in GFRG.
Fuel Management | Road construction not permitted in conjunction with treatments on 100% of wildland urban interface (WUI) Treatments more expensive; insignificant acreage treated relative to acres at risk. Limited capacity to treat high priority condition class 2 and 3 areas Does not directly permit timber cutting to reduce risk of unwanted wildland fire | Road construction permitted in conjunction with treatments on 69% of the WUI Mechanical treatments without road construction may be permitted on 22% of the WUI Mechanical treatments not permitted on 9% of the WUI (7) Projected harvests could treat 14% of high priority areas (i.e., fire regimes I, II, and III, condition class 2 and 3) within WUIs or 1% of high priority areas overall May permit timber cutting to reduce risk of unwanted wildland fire | Road construction permitted in conjunction with treatments on 71% of the wildland urban interface (WUI). Mechanical treatments, without road construction may be permitted on 19% of the WUI. Mechanical treatments not permitted on 10% of the WUI (7). Projected harvests could treat 5% of high priority areas (Fire Regimes I, II and III, Condition Class 2 and 3) within WUIs or less than half a percent of high priority areas overall. Directly permits timber cutting to reduce risk of unwanted wildland fires in the primitive, backcountry, and GFRG themes.
Timber Cutting—Projected
Projected timber cutting | 0.5 MMBF/year (0.5% of annual average)(1) | 14 MMBF/year (11.5% of annual average)(1) | 4 MMBF/year. (3% of annual average)(1).
Vegetation and Fuels Treatments | 100 acres/year 1,500 acres over 15 years | 2,800 acres/year 42,000 acres over 15 years | 800 acres/year. 12,000 acres over 15 years.
Roads—Projected (miles per year)
Permanent—Constructed | 0.8 | 4.8 | 0.8.
Temporary—Constructed | 0.2 | 2.2 | 1.7.
Reconstructed | 0 | 5 | 1.5.
Total New Roads | 1.0 (15 miles over 15 years) | 12 (180 miles over 15 years) | 4.0 (60 miles over 15 years).
Decommissioned | 1 | 4 | 3.
Net Road Miles | 0 | 8 | 1.
|  | (120 miles over 15 years) | (15 miles over 15 years).
Leasable Minerals
Leasable Resources: Phosphate (existing leases) | Projected output is equal across all alternatives because (i) none of the alternatives prohibit road construction and reconstruction associated with existing leases and (ii) existing leases are expected to meet demand in reasonably foreseeable future. Approximately 2 million tons per year of phosphate ore projected to be mined from approximately 8,100 Idaho Roadless Area acres under existing leases under all alternatives over an extended period of 15 years or more (6).
Leasable Resources: Phosphate (future leases) | Opportunities to recover phosphate from unleased known phosphate areas within Idaho Roadless Areas are negligible | Estimated 603 million tons of phosphate deposits from 13,400 unleased acres available for development. Development projected to occur only over extended period, over 50+ years. Development could reduce Idaho Roadless Areas acreage on Caribou-Targhee by 1.8% | Estimated 545 million tons of phosphate deposits from 12,100 unleased acres available for development (road construction prohibited on primitive theme acres). Development projected to occur only over extended period, over 50+ years. Development could reduce Idaho Roadless Areas acreage on Caribou-Targhee by 1.7%.
Leasable Resources: Geothermal Development | Trend data not available to speculate about reasonably foreseeable geothermal development across alternatives. Current lease applications could affect approximately 7,000 acres within Idaho Roadless Areas.
| Negligible opportunities for development | No opportunities on 40% of acreage Limited opportunities on 46% of acreage Open or unrestricted opportunities on 14% of acreage (i.e., 1.262 million GFRG acres) 249,500 acres of high geothermal potential located within GFRG acreage with slopes less than 40% (4) 457,700 acres of medium geothermal potential located within GFRG acreage with slopes less than 40% (4) | No opportunities on 93% of Idaho Roadless Areas acreage. Open or unrestricted opportunities on 7% of acreage (i.e., 609,500 GFRG acres). 233,600 acres of high geothermal potential located within GFRG acreage with slopes less than 40% (4). 140,800 acres of medium geothermal potential located within GFRG acreage with slopes less than 40% (4).
Other Resource and Service Areas where Relative Impacts are Insignificant or Negligible Across Alternatives
Livestock Grazing | Differences in activity, revenue, and operating costs are expected to be minimal across alternatives. Existing processes will regulate management direction related to grazing (allotments and permitted use).
Saleable minerals (sand, stone, gravel, pumice, etc.) | Differences in production of saleable minerals are projected to be minimal across alternatives due to the relative inefficiencies of providing saleable minerals from Idaho Roadless Areas.
Leasable Resources: Oil, Gas, and Coal | Differences in activity and revenue associated with oil, gas, and coal development are expected to be minimal based on existing trends and inventories.
Locatable minerals (gold, silver, lead, etc.) | None of the alternatives affect rights of reasonable access to prospect and explore lands open to mineral entry and develop valid claims under the General Mining Act of 1872.
Special-Uses: Energy Corridors | None of the proposed corridors designated for oil, gas, and/or electricity under Section 368 of the Energy Policy Act are within Idaho Roadless Areas. Opportunities for non-Section 368 corridors within Idaho Roadless Areas are a function of the themes assigned to the areas proposed for corridor development; differences in opportunities across alternatives cannot be discerned.
ROADLESS CHARACTERISTICS
Scenery
Scenic Integrity | Potential reductions from high to low quality on 8,100 acres due to existing phosphate leases, across all alternatives.
| High or very high scenic integrity retained on most Idaho Roadless Areas | Potential for lower scenic quality on 5.5 million acres due to permissions in management prescriptions for timber cutting, road construction/reconstruction and discretionary mineral activities, but reasonably foreseeable losses are small given projections of activities in Idaho Roadless Areas (8) Management prescriptions on remaining 3.8 million acres expected to protect high to very high scenic integrity Long-term reductions on 13,400 acres are possible from new phosphate leasing within Idaho Roadless Areas (5) | Potential for lower scenic quality on 5.9 million acres due to management theme assignments and associated permissions for timber cutting, road construction/reconstruction and discretionary mineral activities, but reasonably foreseeable losses are small given projections of activities in Idaho Roadless Areas (8). Management prescriptions on remaining 3.4 million acres expected to protect high to very high scenic integrity. Long-term reductions on 12,100 acres are possible from new phosphate leasing within Idaho Roadless Areas (5).
Wilderness
Existing Wilderness Areas and Experience | 1,726,000 acres of roadless areas located adjacent to existing wilderness Limited to no indirect effect to wilderness from activities in roadless areas | 158,000 acres of GFRG and 842,000 acres of backcountry located adjacent to existing wilderness Limited potential for impacts to wilderness experience | 9,000 acres of GFRG and 954,000 acres of backcountry located adjacent to existing wilderness. Limited potential for impacts to wilderness experience.
Recommended Wilderness | No change or effect to recommended wilderness in existing plans | Existing plans recommend 1,320,900 as wilderness 1,378,600 acres in wild land recreation • 57,700 acres of additional protection Some recommended wilderness areas in the Boulder-White Clouds and Winegar roadless areas would be managed as primitive 6,900 acres in Mallard Larkins would be managed as backcountry
Wilderness Characteristics | Majority of roadless areas retain their existing character | Areas developed could have reduced wilderness character. Activities in GFRG may not change wilderness character if prior activities are still evident | Areas developed could have reduced wilderness character. Activities in GFRG may not change wilderness character if prior activities are still evident.
Sensitive Species
Botanical Resources (Biodiversity), Wildlife, and Aquatic Species and Habitat | Reasonably foreseeable effects to all species from activities on acreage associated with existing phosphate leases apply across all alternatives. All projects and development associated with predicted activities would be subject to NEPA and other regulatory requirements related to monitoring and mitigation for sensitive species.
| Beneficial effects expected | Beneficial effects expected in wild land recreation, primitive, or SAHTS; Some potential risk of adverse effects in management prescriptions similar to backcountry and GFRG | Beneficial effects expected in wild land recreation, primitive, or SAHTS; Limited potential risk of adverse effects in backcountry; some potential risk in GFRG.
| Number of Occurrences of Known Sensitive Plant Populations, by Theme
Wild Land | 0 | 127 | 141
Primitive | 0 | 166 | 147
SAHTS | 0 | 0 | 1
Backcountry | 1,165 | 523 | 601
GFRG | 0 | 84 | 10
Forest Plan Special Areas | 0 | 265 | 265
Recreation
Recreation (3) | Relatively high potential for maintaining existing dispersed recreation opportunities; little potential for increasing developed recreation No measurable change to dispersed recreation opportunities. Feeling of remoteness or solitude may change if timber cutting or road construction/reconstruction occurs (projected 1,500 acres timber cutting and 15 miles of road construction/reconstruction over 15 years No road construction/reconstruction permitted to access new developed recreations sites (9.3 million acres) | Greatest opportunity for developed and road-based recreation to occur and expand, but magnitude of shift is tempered by limited amount of construction projected to occur No measurable change to dispersed recreation opportunities, except if unleased phosphate deposits (13,400 acres) are developed. Feeling of remoteness or solitude may change if timber cutting or road construction/reconstruction occurs (projected 42,000 acres timber cutting and 180 miles of road construction/reconstruction over 15 years Road construction/reconstruction generally permitted to access new developed recreations sites on management prescriptions similar to backcountry and GFRG (5.5 million acres), but there are no foreseeable developments | Potentially the greatest level of protection for dispersed recreation, foreseeable threats from construction and development are remote. No measurable change to dispersed recreation opportunities, except if unleased phosphate deposits (12,100 acres) are developed. Feeling of remoteness or solitude may change if timber cutting or road construction/reconstruction occurs (projected 12,000 acres timber cutting and 60 miles of road construction/reconstruction over 15 years). Road construction/reconstruction permitted to access new developed recreations sites management in GFRG (.6 million acres), but there are no foreseeable developments.
Special Uses | Reasonably foreseeable differences in effects across alternatives are expected to be minimal given projected levels of road construction and timber cutting. Existing permits unaffected.
Hunting and Fishing | No effect to opportunities | Opportunities could be affected in locations of phosphate leasing and geothermal development. No effect from timber cutting and limited road construction | Opportunities could be affected in locations of phosphate leasing and geothermal development. No effect from timber cutting and limited road construction.
Other Resource and Service Areas where Relative Impacts are Negligible or Minimal Across Alternatives
Cultural Resources | Before management actions taking place on the ground under any alternative or theme, cultural resource inventories and appropriate mitigation are required by law. Differences in risk to cultural resources are not expected to be significant across alternatives due to projected levels of road construction and short-term use and fate of new roads.
| Low potential for disturbance and vandalism | Low to moderate potential for disturbance and vandalism | Low potential for disturbance and vandalism.
Air, Soils, and Water | Projected levels of road construction and timber cutting across alternatives expected to have minimal effect. Levels of prescribed burning will vary to slight extent but subject to strict guidelines for minimizing air impacts. Minimal differences in effects on impaired surface waters (303(d) listed waters) and surface sources of drinking water. Negligible differences in effects on soils from road construction associated with timber cutting. Effects on high hazard soils from road construction associated with phosphate mining are likely, but effects are equivalent across alternatives for existing leases and projected to occur well in the future (>50 years) on the Caribou Targhee NF for unleased areas.
Climate Change | The magnitude and rapidity of climate change is uncertain, particularly at the finer scales such as Idaho Roadless Areas within forests. Variable impacts across alternatives are therefore not quantified.
Non-timber products | Current access for the harvest of non-timber products is not expected to change under the proposed rule. Assignment of Idaho Roadless Area acres to themes that restrict road construction may limit access opportunities for some individuals, but construction may also reduce availability of some species. Projected changes in road miles are minimal across alternatives.
AGENCY COSTS AND REVENUES
Roads | Reasonably foreseeable differences in agency costs (planning, design, and maintenance) are expected to be small given low road mile construction projections, as well as the fact that new roads will often be temporary and/or single-purpose.
Timber Program: Vegetation and Fuels Treatments | Lowest total acreage projected for treatment, implying low aggregate timber program costs. However, per unit treatment costs are expected to be highest, implying lower probability of viable sales Potential loss in net revenue for Idaho Panhandle NF relative to the proposed rule (2) | Highest total acreage projected for treatment, implying higher aggregate timber program costs. Per unit treatment costs are expected to be lower, implying higher probability for positive net revenue and viable sales Potential gain in net revenue for Idaho Panhandle, Clearwater, and Nez Perce NFs, relative to the proposed rule (2) | Intermediate amount of acreage projected for treatment, implying moderate aggregate timber program costs, relative to the 2001 rule and existing plans. Per unit treatment costs are expected to be lower, implying higher probability for positive net revenue and viable sales. Potential gain in net revenue for the Idaho Panhandle NF relative to the 2001 rule, and potential loss in net revenue for the Idaho Panhandle, Clearwater, and Nez Perce NFs, relative to existing plans (2).
(1) Percentage of average harvest on all National Forest System land within Idaho that occurred between 2002 and 2006. Harvest primarily attributable to stewardship and treatments for forest health and fuels management.
(2) Projections based on average historic net revenue per unit of harvest and projected harvests. It is recognized that an individual sale within any given forest unit may be below or above cost.
(3) The proposed rule does not provide direction on where and when OHV use would be permissible.
(4) Lease approvals subject to NEPA and other regulatory requirements. Acceptable slopes for leasing likely to be <4%.
(5) Upon completion of mining, scenic levels would be upgraded to a level commensurate with reclamation implemented.
(6) 1,100 acres under existing leases are likely to be mined in 15 years in Sage Creek and Meadow Peak Idaho Roadless Areas, with the remaining acres (7,000) expected to be mined over a more extended period.
(7) Includes land in forest plan special use areas.
(8) Reductions from high/very high to moderate scenic integrity.
(9) 25% or more tree mortality can be expected over the next 15 years.

Table 2.—Summary of Distributional Effects and Economic Impacts of the Proposed Rule and Alternatives
Category | 2001 Roadless rule | Existing plans | Proposed rule
Timber Cutting
Jobs (1) | 13/yr | 304/yr | 91/yr.
Labor income (1) | $343,000/yr | $7,651,000/yr | $1,935,000/yr.
Location of Jobs: BEA Economic Areas (EA) | Northern EA (Idaho Panhandle NF) | Northern (Idaho Panhandle), southeastern (Caribou/Targhee NF), and central (Clearwater and Nez Perce NF) EAs | Northern (Idaho Panhandle), and southeastern (Caribou/Targhee NF) EAs.
Leasable Minerals Phosphate
Jobs and labor income (1) | No changes in jobs (582/year) or labor income ($23.5 million/yr) contributed by phosphate extraction on existing leases within Idaho Roadless Areas, because none of the alternatives affect existing leases.
| No new leases on Idaho Roadless Area likely to be feasible | Jobs and income from new leases on unleased phosphate reserve areas within Idaho Roadless Areas in the southeastern EA are expected to occur over an extended period (>50 yrs) | Jobs and income from new leases on unleased phosphate reserve areas within Idaho Roadless Areas in the southeastern EA are expected to occur over an extended period (>50 yrs).
Road Construction and Reconstruction
Jobs (1) | 2/yr | 12/yr | 4/yr.
Labor income (1) | $100,000/yr | $467,000/yr | $150,000/yr.
Location of Jobs: BEA Economic Areas (EA) | Northern and southeastern EAs | Northern, southeastern, and central EAs | Northern and southeastern EAs.
Revenue Sharing and Resource Dependent Communities
Timber-Dependent Counties (2) | Northern EA: Boundary, Bonner, Kootenai, Benewah, Latah, Ferry (WA), Pend Oreille (WA), Shoshone, and Stevens (WA). Central EA: Clearwater, Idaho, Lewis, Nez Perce, and Asotin (WA). Southeastern EA: Bear Lake.
Revenue Sharing | Payments to counties are expected to remain the same under all alternatives as long as the Secure Rural Schools and Community Self-Determination Act remains in effect. If SRSA is allowed to lapse, timber-dependent counties are likely to experience the greatest loss. Mineral-based payments to states are a function of leasable receipts, but no differences in phosphate production are projected across alternatives over the next 15 years.
Adverse Impacts to Small Entity Opportunities | Greatest potential, given restrictions associated with the backcountry theme | Least potential, given fewest management theme restrictions | Lower potential relative to the 2001 rule, and potential for some isolated impacts (e.g., northern and central EAs) relative to existing plans.
(1) Jobs and income contributed annually (2007$). Based on projected levels of timber cutting, road construction, and phosphate mining output per year, conversion of physical output to final demand $) using FEAST (citation), and application of IMPLAN multipliers (Minnesota IMPLAN Group 2003).
Counties where 10% of total labor income is attributable to timber-related sectors. Little or no potential for adverse impacts to the local economy is predicted for these counties under the proposed rule relative to the 2001 rule but some potential for adverse impacts exists compared to existing plans. Changes in jobs and income are not projected for phosphate mining, but counties dependent on phosphate mining include Caribou, Oneida, Power, and Bannock in the southeastern EA.

Proper Consideration of Small Entities

This proposed rule has also been considered in light of Executive Order 13272 regarding proper consideration of small entities and the Small Business Regulatory Enforcement Fairness Act of 1996 (SBREFA), which amended the Regulatory Flexibility Act (5 U.S.C. 601, et seq.). The Forest Service with the assistance of the State has determined that this action will not have a significant economic impact on a substantial number of small entities as defined by the E.O. 13272 and SBREFA. Therefore, a regulatory flexibility analysis is not required for this proposed rule.

For many activities and/or program areas, small entity opportunities under the proposed rule are projected to increase, relative to the 2001 rule because of easing of restrictions on selected activities under the backcountry management theme and adoption of the less-restrictive GFRG management theme for a number of Idaho Roadless Areas under the proposed rule. Exceptions include the potential for losses in small entity opportunities associated with timber cutting in the northern and central EAs, relative to existing plans. However, recent harvests from Idaho Roadless Areas, as represented by projected harvests under the 2001 rule, have been equal to or less than the volumes projected under the proposed rule, and small business shares are being met for the most part for forest units in these EAs. It is unlikely that opportunities for small entities associated with phosphate mining will decrease under the proposed rule given the size of corporations currently operating mines in Idaho and flexibility offered by management theme assignments.

Controlling Paperwork Burdens on the Public

This proposed rule does not call for any additional recordkeeping or reporting requirements or other information collection requirements as defined in 5 CFR part 1320 that are not already required by law or not already approved for use (OMB 0596-0178) and, therefore, imposes no additional paperwork burden on the public. Accordingly, the review provisions of the Paperwork Reduction Act of 1995 (44 U.S.C. 3501, et seq.) and its implementing regulations at 5 CFR part 1320 do not apply.

Federalism

The Department has considered this proposed rule under the requirements of Executive Order 13132 issued August 4, 1999 (E.O. 13132), Federalism. The Department has made an assessment that the proposed rule conforms with the Federalism principles set out in E.O. 13132; would not impose any compliance costs on the states; and would not have substantial direct effects on the states, on the relationship between the national government and the states, nor on the distribution of power and responsibilities among the various levels of government. Therefore, the Department concludes that this proposed rule does not have Federalism implications. This proposed rule is based on a petition submitted by the State of Idaho under the Administrative Procedure Act at 5 U.S.C. § 553(e) and pursuant to Department of Agriculture regulations at 7 CFR § 1.28. The State's petition was developed with involvement of local governments. The State has been a cooperating agency for the development of this proposed rule. State and local governments are encouraged to comment on this proposed rule, in the course of this rulemaking process.

Consultation With Indian Tribal Governments

The United States has a unique relationship with Indian Tribes as provided in the Constitution of the United States, treaties, and federal statutes. These relationships extend to the Federal government's management of public lands and the Forest Service strives to assure that its consultation with Native American Tribes is meaningful, in good faith, and entered into on a government-to-government basis.

On September 23, 2004, President George W. Bush issued Executive Memorandum Government-to-Government Relationship with Tribal Governments recommitting the Federal government to work with federally recognized Native American Tribal governments on a government-to-government basis and strongly supporting and respecting Tribal sovereignty and self-determination.

Management of roadless areas has been a topic of interest and importance to Tribal governments. During promulgation of the 2001 Roadless Rule, Forest Service line officers in the field were asked to make contact with Tribes to ensure awareness of the initiative and of the rulemaking process. Outreach to Tribes was conducted at the national forest and grassland level, which is how Forest Service government-to-government dialog with Tribes is typically conducted. Tribal representatives remained engaged concerning these issues during the subsequent litigation and rulemaking efforts.

The State's petition identifies that a vital part of its public process in developing its petition were the recommendations and comments received from Native American Tribes. The Governor's office was keenly aware of the spiritual and cultural significance some of these areas hold for the Tribes. The State solicited input from the Coeur D'Alene, Kootenai, Nez Perce, Shoshone-Bannock, and Shoshone-Paiute Tribes. The State and Forest Service have endeavored to reflect those interests and concerns in the proposed rule. Based on that input, the State and Forest Service developed a special theme to recognize and address certain roadless areas with special areas of historic or Tribal significance, including Pilot Knob, the Nimiipuu, and Lewis and Clark Historic Trails.

Pursuant to Executive Order 13175 of November 6, 2000, “Consultation and Coordination with Indian Tribal Governments,” the Department has assessed the impact of this proposed rule on Indian Tribal governments and has determined that the proposed rule does not significantly or uniquely affect Indian Tribal government communities. The proposed rule would establish direction governing the management and protection of Idaho Roadless Areas, however, the proposed rule respects prior existing rights, and it addresses discretionary Forest Service management decisions involving road construction, timber harvest, and some mineral activities. The Department has also determined that this proposed rule does not impose substantial direct compliance costs on Indian Tribal governments. This proposed rule does not mandate Tribal participation in roadless management of the planning of activities in Idaho Roadless Areas. Rather, the Forest Service officials are obligated by other agency policies to consult early with Tribal governments and to work cooperatively with them where planning issues affect Tribal interests.

No Takings Implications

This proposed rule has been analyzed in accordance with the principles and criteria contained in Executive Order 12630 issued March 15, 1988. It has been determined that the proposed rule does not pose the risk of a taking of private property.

Civil Justice Reform

This proposed rule has been reviewed under Executive Order 12988, Civil Justice Reform. After adoption of this proposed rule, (1) all State and local laws and regulations that conflict with this proposed rule or that would impede full implementation of this proposed rule will be preempted; (2) no retroactive effect would be given to this proposed rule; and (3) this proposed rule would not require the use of administrative proceedings before parties could file suit in court challenging its provisions.

Unfunded Mandates

Pursuant to Title II of the Unfunded Mandates Reform Act of 1995 (2 U.S.C. 1531-1538), the Department has assessed the effects of this proposed rule on State, local, and Tribal governments and the private sector. This proposed rule does not compel the expenditure of $100 million or more by State, local, or Tribal governments or anyone in the private sector. Therefore, a statement under section 202 of the Act is not required.

Energy Effects

This proposed rule has been reviewed under Executive Order 13211 of May 18, 2001, Actions Concerning Regulations That Significantly Affect Energy Supply, Distribution, or Use. It has been determined that this proposed rule does not constitute a significant energy action as defined in the Executive order. As explained above and in greater detail in the DEIS, this proposed rule is not expected to significantly affect energy supplies, distribution, or use. The proposed rule does not disturb existing access or mineral rights, restrictions on saleable mineral materials are narrow, and no oil and gas leasing is currently underway or projected for these lands. The proposed rule also provides regulatory mechanism for consideration of requests for modification of restrictions if adjustments are determined to be necessary in the future. Therefore, this action is not a significant energy action and no Statement of Energy Effects is required.

List of Subjects in 36 CFR Part 294

National Forests, Recreation areas, Navigation (air), State petitions for inventoried roadless area management.

Therefore, for the reasons set forth in the preamble, the Forest Service proposes to amend part 294 of Title 36 of the Code of Federal Regulations by adding new subpart C to read as follows:

PART 294—SPECIAL AREAS

Subpart C—Idaho Roadless Area Management

Sec.

294.20 Purpose.

294.21 Definitions.

294.22 Idaho Roadless Areas.

294.23 Road construction and reconstruction in Idaho Roadless Areas.

294.24 Mineral activities in Idaho Roadless Areas.

294.25 Timber cutting, sale, or removal in Idaho Roadless Areas.

294.26 Other activities in Idaho Roadless Areas.

294.27 Scope and applicability.

294.28 List of designated Idaho Roadless Areas.

Subpart C—Idaho Roadless Area Management

Authority: 16 U.S.C. 472, 529, 551, 1608, 1613; 23 U.S.C. 201, 205.

§ 294.20 Purpose.

(a) The purpose of this subpart is to provide, in the context of multiple-use management, lasting protection for designated inventoried roadless areas in the national forests in Idaho. These rules set forth the procedures for management of Idaho Roadless Areas notwithstanding any other regulatory provision set forth in part 294.

(b) Consistent with the Multiple-Use Sustained-Yield Act of 1960 (16 U.S.C. 528-531), the goal of managing the National Forest System is to sustain in perpetuity the productivity of the land and the multiple uses of its renewable resources. These renewable resources are to be managed so that they are used in the combination that will best meet the needs of the American people.

§ 294.21 Definitions.

The following terms and definitions apply to this subpart.

At-risk Community: As defined under section 101 of the Healthy Forests Restoration Act the term “at risk-community” means an area:

(1) That is comprised of:

(i) An interface community as defined in the notice entitled “Wildland Urban Interface Communities Within the Vicinity of Federal Lands That Are at High Risk From Wildfire” issued by the Secretary of Agriculture and the Secretary of the Interior in accordance with Title IV of the Department of the Interior and Related Agencies Appropriations Act, 2001 (Pub. L. 106-291); or

(ii) A group of homes and other structures with basic infrastructure and services (such as utilities and collectively maintained transportation routes) within or adjacent to Federal land;

(2) In which conditions are conducive to a large-scale wildland fire disturbance event; and

(3) For which a significant threat to human life or property exists as a result of a wildland fire disturbance event.

Backcountry/restoration theme: An Idaho Roadless Area classification intended to retain undeveloped character, while providing a variety of recreation opportunities and allowing for limited forest health activities including preserving biological strongholds for a variety of species and maintaining or restoring the characteristics of ecosystem composition and structure.

Forest road: As defined at 36 CFR 212.1, a “forest road” means a road wholly or partly within or adjacent to and serving the National Forest System that the Forest Service determines is necessary for the protection, administration, and utilization of the National Forest System and the use and development of its resources.

General forest, rangeland, and grassland theme: An Idaho Roadless Area classification intended to provide a variety of goods and services as well as a broad range of recreational opportunities and conservation of natural resources.

Idaho roadless areas: Areas designated pursuant to this rule and identified in a set of maps maintained at the national headquarters office of the Forest Service.

Municipal water supply system: As defined under section 101 of the Healthy Forests Restoration Act, the term “municipal water supply system” means the reservoirs, canals, ditches, flumes, laterals, pipes, pipelines, and other surface facilities and systems constructed or installed for the collection, impoundment, storage, transportation, or distribution of drinking water.

Primitive theme: An Idaho Roadless Area classification intended to remain relatively undisturbed by human management activities while allowing for limited forest health activities including preserving biological strongholds for a variety of species and protecting ecological integrity.

Responsible official: The Forest Service line officer with the authority and responsibility to make decisions about protection and management of Idaho Roadless Areas pursuant to this subpart.

Road: As defined at 36 CFR 212.1, a “road” means a motor vehicle route over 50 inches wide, unless identified and managed as a trail.

Road construction and reconstruction: As defined at 36 CFR 212.1, “road construction or reconstruction” means supervising, inspecting, actual building, and incurrence of all costs incidental to the construction or reconstruction of a road.

Road maintenance: The ongoing upkeep of a road necessary to retain or restore the road to the approved road management objective.

Road realignment: Activity that results in a new location of an existing road or portions of an existing road, and treatment of the old roadway.

Roadless characteristics: Resources or features that are often present in and characterize Idaho Roadless Areas, including:

(1) High quality or undisturbed soil, water, and air;

(2) Sources of public drinking water;

(3) Diversity of plant and animal communities;

(4) Habitat for threatened, endangered, proposed, candidate, and sensitive species, and for those species dependent on large, undisturbed areas of land;

(5) Primitive, semi-primitive non-motorized, and semi-primitive motorized classes of dispersed recreation;

(6) Reference landscapes;

(7) Natural appearing landscapes with high scenic quality;

(8) Traditional cultural properties and sacred sites; and

(9) Other locally identified unique characteristics.

Significant risk: A natural resource condition threatening an at-risk community or municipal water supply system.

Special area of historic or tribal significance theme: An Idaho Roadless Area classification intended to be relatively undisturbed by human management activities in order to maintain unique Tribal or historic characteristics.

Substantially altered portion: An area within an Idaho Roadless Area where past road construction, timber cutting, or other uses have materially diminished the area's roadless characteristics.

Temporary road: As defined at 36 CFR 212.1, a “temporary road'' is a road necessary for emergency operations or authorized by contract, permit, lease, or other written authorization that is not a forest road and that is not included in a forest transportation atlas.

Wild land recreation theme: An Idaho Roadless Area classification intended to areas show little evidence of human-caused disturbance, and natural conditions and processes are predominant.

§ 294.22 Idaho Roadless Areas.

(a) Designations. All National Forest System lands within the State of Idaho listed in § 294.28 are hereby designated as Idaho Roadless Areas.

(b) Maps. The Chief shall maintain and make available to the public a map of each Idaho Roadless Area, including records regarding any corrections or modifications of such maps pursuant to § 294.27(e).

(c) Management classifications. Management classifications for Idaho Roadless Areas express a management continuum that includes at one end, a restrictive approach emphasizing passive management and natural restoration approaches, and on the other end, active management designed to accomplish sustainable forest, rangeland, and grassland management. The following management classifications are established:

(1) Wild Land Recreation,

(2) Special Areas of Historic or Tribal Significance,

(3) Primitive,

(4) Backcountry/Restoration, and

(5) General Forest, Rangeland, and Grassland

(d) Activities in Idaho Roadless Areas shall be consistent with the applicable management classification listed for each area under § 294.28.

§ 294.23 Road construction and reconstruction in Idaho Roadless Areas.

(a) Wild land recreation, special areas of historic or tribal significance, or primitive. Road construction and reconstruction are prohibited in Idaho Roadless Areas listed under § 294.28; however, a road may be constructed or reconstructed in an area listed as wild land recreation, special area of historic or Tribal significance, or primitive when provided by statute, treaty, pursuant to reserved or outstanding rights, or other legal duty of the United States.

(b) Backcountry/restoration. (1) Road construction and reconstruction are allowed in Idaho Roadless Areas listed under § 294.28 only if the responsible official determines that it meets one or more of the following criteria:

(i) A road is needed to protect public health and safety in cases of significant risk or imminent threat of flood, wildland fire, or other catastrophic event that, without intervention, would cause the loss of life or property; or to facilitate forest health activities permitted under § 294.25(c)(1);

(ii) A road is needed to conduct a response action under the Comprehensive Environmental Response, Compensation, and Liability Act (CERCLA) or to conduct a natural resource restoration action under CERCLA, section 311 of the Clean Water Act, or the Oil Pollution Act;

(iii) A road is needed pursuant to statute, treaty, reserved or outstanding rights, or other legal duty of the United States;

(iv) Road realignment is needed to prevent resource damage that arises from the design, location, use, or deterioration of a forest road and cannot be mitigated by road maintenance. Road realignment may occur under this paragraph only if the road is deemed essential for public or private access, natural resource management, or public health and safety;

(v) Road construction is needed to implement a road safety improvement project on a road determined to be hazardous based on accident experience or accident potential on that road; or

(vi) The Secretary of Agriculture determines that a Federal aid highway project, authorized pursuant to Title 23 of the United States Code, is in the public interest or is consistent with the purpose for which the land was reserved or acquired and no other reasonable and prudent alternative exists.

(vii) A road is needed in conjunction with activities permissible under the limited mineral activity exceptions set forth in § 294.24.

(2) Any road constructed pursuant to paragraph (b)(1) of this section must be a temporary road unless the responsible official determines that a forest road meets a criterion set forth in paragraphs (b)(1)(i) through (vii) of this section and the addition of a forest road will not substantially alter roadless characteristics as defined in this proposed rule.

(3) Maintenance of forest or temporary roads is permissible in areas listed as backcountry/restoration in § 294.28.

(c) General forest, rangeland, and grassland. (1) A forest or temporary road may be constructed or reconstructed in Idaho Roadless Areas listed in § 294.28 after the necessary environmental analysis is completed.

(2) Maintenance of forest and temporary roads is permissible as provided in § 294.28.

§ 294.24 Mineral activities in Idaho Roadless Areas.

(a) Nothing in this subpart shall be construed as expressly or implicitly restricting mineral leases, contracts, permits, and associated activities (including, but not limited to, access and road construction or reconstruction, surface use, and occupancy) authorized prior to the effective date of the final rule; including any subsequent renewal, reissuance, continuation, extension, or modification, or new legal instruments, for mineral and associated activities on these or adjacent lands. Nothing in this subpart shall affect mining activities conducted pursuant to the General Mining Law of 1872.

(b) After [final rule effective date], the Forest Service will not authorize sale of common variety mineral materials in Idaho Roadless Areas that are listed to be managed pursuant to wild land recreation, special areas of historic or Tribal significance, or primitive themes.

(c) After [final rule effective date], the Forest Service will not recommend, authorize, or consent to road construction, road reconstruction, or surface occupancy associated with mineral leases in Idaho Roadless Areas that are listed to be managed pursuant to wild land recreation, special areas of historic or Tribal significance, and primitive themes.

(d) After [final rule effective date], the Forest Service will not recommend, authorize, or consent to road construction or reconstruction associated with mineral leases in Idaho Roadless Areas that are listed as backcountry/restoration; except such road construction or reconstruction may be authorized in association with phosphates leasing. Surface use or occupancy without road construction or reconstruction is permissible for all mineral leasing.

(e) After [final rule effective date], the Forest Service may authorize the use or sale of common variety mineral materials, and associated road construction or reconstruction to access these mineral materials, in Idaho Roadless Areas that are listed as backcountry/restoration only if the use of these mineral materials is incidental to an activity otherwise allowed under this proposed rule.

(f) After [final rule effective date], the Forest Service may recommend, authorize, or consent to activities associated with mineral leases in Idaho Roadless Areas that are designated to be managed pursuant to general forest, rangeland, and grassland theme.

(g) Road construction or reconstruction associated with mining activities allowed under this subsection must be conducted in a manner that minimizes effects on surface resources, prevents unnecessary or unreasonable surface disturbances, and complies with all applicable lease requirements, land and resource management plans except as provided in § 294.27(b), regulations, and laws. Roads constructed or reconstructed pursuant to this subsection must be decommissioned when no longer needed or upon expiration of the lease, contract, or permit, whichever is sooner.

§ 294.25 Timber cutting, sale, or removal in Idaho Roadless Areas.

(a) Wild land recreation. The cutting, sale, or removal of timber is prohibited unless the responsible official determines:

(1) It is for personal or administrative use, as provided for in 36 CFR part 223; or

(2) It is incidental to the implementation of a management activity not otherwise prohibited by this subpart.

(b) Special areas of historic or tribal significance, or primitive. The cutting, sale, or removal of timber is prohibited unless existing roads or aerial harvest systems are used and the responsible official determines that:

(1) The cutting, sale, or removal of timber will maintain or improve one or more of the roadless characteristics as defined in this proposed rule and is needed for one of the following purposes:

(i) To improve threatened, endangered, proposed, or sensitive species habitat; or

(ii) To maintain or restore the characteristics of ecosystem composition and structure or to reduce the significant risk of wildland fire effects.

(2) The cutting, sale, or removal of timber is:

(i) For personal or administrative use, as provided for in 36 CFR part 223; or

(ii) Incidental to the implementation of a management activity not otherwise prohibited by this subpart.

(c) Backcountry/restoration. Timber may be cut, sold, or removed if the responsible official determines that one of the following circumstances exists.

(1) The cutting, sale, or removal of timber will maintain or improve one or more of the roadless characteristics as defined in this proposed rule and is needed for one of the following purposes:

(i) To improve threatened, endangered, proposed, or sensitive species habitat; or

(ii) To maintain or restore the characteristics of ecosystem composition and structure or to reduce the significant risk of wildland fire effects.

(2) The cutting, sale, or removal of timber is:

(i) For personal or administrative use, as provided for in 36 CFR part 223;

(ii) Incidental to the implementation of a management activity not otherwise prohibited by this subpart; or

(iii) In a substantially altered portion of an Idaho Roadless Area designated as backcountry/restoration, which has been altered due to the construction of a forest road and subsequent timber cutting. Both the road construction and subsequent timber cutting must have occurred prior to the effective date of this rule.

(d) General forest, rangeland, and grassland. Timber may be cut, sold, or removed upon the discretion of the responsible official consistent with the applicable forest plan except as provided in § 294.27(b) after the required site-specific environmental analysis, including public involvement, is completed.

§ 294.26 Other Activities in Idaho Roadless Areas.

(a) Motorized travel. Nothing in this subpart shall be construed as expressly or implicitly affecting the current or future management status of existing roads or trails in Idaho Roadless Areas. Decisions concerning the future management and/or status of existing roads or trails in Idaho Roadless Areas under this rule shall be made during the applicable travel management processes.

(b) Grazing. Nothing in this subpart shall be construed as expressly or implicitly affecting the current management status of existing grazing allotments in Idaho Roadless Areas. Future road construction or reconstruction associated with grazing operations shall conform to this rule.

(c) Motorized equipment and mechanical transport. Nothing in this subpart shall be construed as expressly or impliedly affecting the current or future management status of the existing use of motorized equipment and mechanical transport in Idaho Roadless Areas. Decisions concerning the future management and/or use of motorized equipment and mechanical transport in Idaho Roadless Areas under this rule shall be made during the applicable forest planning processes.

§ 294.27 Scope and applicability.

(a) This subpart does not revoke, suspend, or modify any permit, contract, or other legal instrument authorizing the occupancy and use of National Forest System land issued prior to [final rule effective date].

(b) The provisions set forth in this subpart shall take precedence over any inconsistent regulatory provision (including, to the extent it has any current legal effect, the regulations contained in subpart B of this part) or land and resource management plan. This subpart does not compel the amendment or revision of any land and resource management plan.

(c) This subpart does not revoke, suspend, or modify any project or activity decision made prior to [final rule effective date].

(d) This subpart is not subject to reconsideration, revision, or rescission in subsequent project decisions or land and resource management plan amendments or revisions undertaken pursuant to 36 CFR part 219.

(e) Correction or modification may occur under the following circumstances:

(1) Administrative corrections. The Chief of the Forest Service may issue administrative corrections to the maps of lands identified in § 294.22(b) at any time. Corrections are effective upon public notice. Administrative corrections include, but are not limited to, adjustments that remedy clerical, typographical, mapping errors, or improvements in mapping technology.

(2) Modifications. The Chief may add to, remove from, or modify the designations and management classifications listed in § 294.28 based on changed circumstances or public need. If such modification would result in a significant change, public involvement comparable to that required for the promulgation of this rule shall be conducted; that is, notice and comment rulemaking. Factors to be considered in assessing the significance of the modifications include location and size, degree of change, and the purpose of the modification. At least 30 days public notice shall be given prior to any non-significant modification of the classifications of lands listed in § 294.28.

(f) If any provision of the rules in this subpart or its application to any person or to certain circumstances is held invalid, the remainder of the regulations in this subpart and their application remain in force.

§ 294.28 List of Designated Idaho Roadless Areas.
Forest | Idaho roadless area | # | Wild land recreation | Primitive | Backcountry restoration | GFRG | SAHTS | Forest plan special areas
Boise | Bald Mountain | 019 |  |  | X |  |  | X
Boise | Bear Wallow | 125 |  | X |  |  |  | X
Boise | Bernard | 029 |  |  | X |  |  | X
Boise | Black Lake | 036 |  |  | X |  |  | X
Boise | Blue Bunch | 923 |  |  | X |  |  | X
Boise | Breadwinner | 006 |  |  | X |  |  | X
Boise | Burnt Log | 035 |  |  | X |  |  | X
Boise | Cathedral Rocks | 038 |  | X |  |  |  | X
Boise | Caton Lake | 912 |  |  | X | X |  | X
Boise | Cow Creek | 028 |  | X |  |  |  |
Boise | Danskin | 002 |  | X |  |  |  | X
Boise | Deadwood | 020 |  | X | X |  |  | X
Boise | Elk Creek | 022 |  |  | X |  |  | X
Boise | Grand Mountain | 007 |  |  | X |  |  | X
Boise | Grimes Pass | 017 |  |  | X | X |  | X
Boise | Hanson Lakes | 915 | X | X |  |  |  | X
Boise | Hawley Mountain | 018 |  | X |  |  |  |
Boise | Horse Heaven | 925 |  |  | X | X |  |
Boise | House Mountain | 001 |  | X |  |  |  | X
Boise | Lime Creek | 937 |  | X |  |  |  |
Boise | Lost Man Creek | 041 |  | X |  |  |  | X
Boise | Meadow Creek | 913 |  |  | X | X |  | X
Boise | Mt Heinen | 003 |  | X |  |  |  |
Boise | Nameless Creek | 034 |  |  | X |  |  |
Boise | Needles | 911 | X | X | X | X |  | X
Boise | Peace Rock | 026 |  | X | X |  |  | X
Boise | Poison Creek | 042 |  |  | X |  |  |
Boise | Poker Meadows | 032 |  |  | X |  |  | X
Boise | Rainbow | 008 |  | X |  |  |  | X
Boise | Red Mountain | 916 | X | X | X | X |  | X
Boise | Reeves Creek | 010 |  |  | X |  |  |
Boise | Sheep Creek | 005 |  | X |  |  |  | X
Boise | Smoky Mountains | 914 |  | X |  |  |  | X
Boise | Snowbank | 924 |  | X |  |  |  |
Boise | Steel Mountain | 012 |  | X |  |  |  | X
Boise | Stony Meadows Ten Mile/Black | 027 |  | X | X |  |  |
Boise | Warrior | 013 | X | X |  | X |  | X
Boise | Tennessee | 033 |  |  | X |  |  | X
Boise | Whiskey | 031 |  |  | X |  |  |
Boise | Whiskey Jack | 009 |  | X |  |  |  |
Boise | Whitehawk Mountain | 021 |  |  | X | X |  |
Boise | Wilson Peak | 040 |  | X |  |  |  |
Caribou | Bear Creek | 615 |  | X | X | X |  | X
Caribou | Bonneville Peak | 154 |  |  | X | X |  | X
Caribou | Caribou City | 161 | X |  | X | X |  | X
Caribou | Clarkston Mountain | 159 |  |  | X | X |  |
Caribou | Deep Creek | 158 |  |  | X | X |  | X
Caribou | Dry Ridge | 164 |  |  | X | X |  |
Caribou | Elkhorn Mountain | 156 |  |  | X | X |  |
Caribou | Gannett-Spring Creek | 111 |  | X | X | X |  | X
Caribou | Gibson | 181 |  |  | X | X |  |
Caribou | Hell Hole | 168 |  |  |  | X |  | X
Caribou | Huckleberry Basin | 165 |  |  | X | X |  |
Caribou | Liberty Creek | 175 |  |  | X | X |  | X
Caribou | Meade Peak | 167 |  | X | X | X |  | X
Caribou | Mink Creek | 176 |  |  | X | X |  | X
Caribou | Mount Naomi | 758 | X |  | X | X |  |
Caribou | North Pebble | 155 |  |  | X | X |  |
Caribou | Oxford Mountain | 157 |  |  | X | X |  | X
Caribou | Paris Peak | 177 |  |  | X | X |  |
Caribou | Pole Creek | 160 |  |  | X | X |  |
Caribou | Red Mountain | 170 |  | X | X | X |  |
Caribou | Sage Creek | 166 |  |  | X | X |  |
Caribou | Schmid Peak | 163 |  |  | X | X |  |
Caribou | Scout Mountain | 152 |  |  | X | X |  | X
Caribou | Sherman Peak | 172 |  |  | X | X |  |
Caribou | Soda Point | 171 |  |  | X | X |  | X
Caribou | Station Creek | 178 |  |  | X | X |  |
Caribou | Stauffer Creek | 173 |  |  | X |  |  |
Caribou | Stump Creek | 162 |  | X | X | X |  | X
Caribou | Swan Creek | 180 |  |  | X |  |  |
Caribou | Telephone Draw | 169 |  |  | X | X |  | X
Caribou | Toponce | 153 |  | X | X | X |  |
Caribou | West Mink | 151 |  |  | X | X |  | X
Caribou | Williams Creek | 174 |  |  | X | X |  | X
Caribou | Worm Creek | 170 |  |  | X | X |  | X
Challis | Blue Bunch Mountain | 923 |  |  | X |  |  |
Challis | Borah Peak | 012 | X |  | X |  |  |
Challis | Boulder-White Clouds | 920 | X |  | X |  |  |
Challis | Camas Creek | 901 |  |  | X |  |  |
Challis | Challis Creek | 004 |  |  | X |  |  |
Challis | Cold Springs | 026 |  |  | X |  |  |
Challis | Copper Basin | 019 |  |  | X |  |  |
Challis | Diamond Peak | 601 |  |  | X |  |  | X
Challis | Greylock | 007 |  |  | X |  |  |
Challis | Grouse Peak | 010 |  |  | X |  |  |
Challis | Hanson Lake | 915 |  |  | X |  |  |
Challis | Jumpoff Mountain | 014 |  |  | X |  |  |
Challis | King Mountain | 013 |  |  | X |  |  |
Challis | Lemhi Range | 903 |  |  | X |  |  | X
Challis | Loon Creek | 908 |  |  | X |  |  |
Challis | Pahsimeroi Mountain | 011 |  |  | X |  |  |
Challis | Pioneer Mountains | 921 | X |  | X |  |  | X
Challis | Prophyry Peak | 017 |  |  | X |  |  |
Challis | Railroad Ridge | 922 |  |  | X |  |  |
Challis | Red Hill | 027 |  |  | X |  |  |
Challis | Red Mountain | 916 |  |  | X |  |  |
Challis | Seafoam | 009 |  |  | X |  |  |
Challis | Spring Basin | 006 |  |  | X |  |  |
Challis | Squaw Creek | 005 |  |  | X |  |  |
Challis | Taylor Mountain | 902 |  |  | X |  |  |
Challis | Warm Creek | 024 |  |  | X |  |  |
Challis | White Knob | 025 |  |  | X |  |  |
Challis | Wood Canyon | 028 |  |  | X |  |  |
Clearwater | Bighorn-Weitas | 306 |  |  | X |  | X | X
Clearwater | Eldorado Creek | 312 |  |  | X |  | X |
Clearwater | Hoodoo | 301 | X |  |  |  | X |
Clearwater | Lochsa Face | 311 |  | X | X |  |  | X
Clearwater | Lolo Creek (LNF) | 805 |  |  | X |  |  |
Clearwater | Mallard-Larkins | 300 | X |  | X |  |  |
Clearwater | Meadow Creek—Upper North Fork | 302 |  |  | X |  |  |
Clearwater | Moose Mountain | 305 |  |  | X |  |  |
Clearwater | North Fork Spruce—White Sand | 309 | X | X | X |  |  |
Clearwater | North Lochsa Slope | 307 |  | X | X |  | X | X
Clearwater | Pot Mountain | 304 |  |  | X |  |  | X
Clearwater | Rackliff-Gedney | 841 |  |  | X |  |  | X
Clearwater | Rawhide | 313 |  |  | X |  |  |
Clearwater | Siwash | 303 |  |  | X |  |  |
Clearwater | Sneakfoot Meadows | 314 | X | X | X |  |  | X
Clearwater | Weir-Post Office Creek | 308 |  |  | X |  | X | X
Idaho Panhandle | Beetop | 130 |  |  | X |  |  |
Idaho Panhandle | Big Creek | 143 |  |  | X |  |  |
Idaho Panhandle | Blacktail Mountain | 122 |  |  | X |  |  | X
Idaho Panhandle | Blacktail Mountain | 161 |  |  | X |  |  |
Idaho Panhandle | Buckhorn Ridge | 661 |  |  | X |  |  |
Idaho Panhandle | Continental Mountain | 004 |  |  | X |  |  |
Idaho Panhandle | East Cathedral Peak | 131 |  |  | X | X |  | X
Idaho Panhandle | East Fork Elk | 678 |  |  |  | X |  |
Idaho Panhandle | Gilt Edge-Silver Creek | 792 |  |  | X |  |  |
Idaho Panhandle | Graham Coal | 139 |  |  | X |  |  | X
Idaho Panhandle | Grandmother Mountain | 148 | X |  | X |  |  | X
Idaho Panhandle | Hammond Creek | 145 |  |  | X |  |  |
Idaho Panhandle | Hellroaring | 128 |  |  |  | X |  |
Idaho Panhandle | Katka Peak | 157 |  |  | X | X |  |
Idaho Panhandle | Kootenai Peak | 126 |  |  |  | X |  |
Idaho Panhandle | Little Grass Mountain | 121 |  |  | X |  |  |
Idaho Panhandle | Lost Creek | 137 |  |  | X |  |  | X
Idaho Panhandle | Magee | 132 |  |  | X | X |  | X
Idaho Panhandle | Mallard-Larkins | 300 | X |  | X | X | X | X
Idaho Panhandle | Maple Peak | 141 |  |  | X |  |  |
Idaho Panhandle | Meadow Creek-Upper N. Fork | 302 |  |  | X |  |  | X
Idaho Panhandle | Midget Peak | 151 |  |  | X |  |  | X
Idaho Panhandle | Mosquito-Fly | 150 |  |  | X |  |  | X
Idaho Panhandle | Mt. Willard-Lake Estelle | 173 |  |  | X |  |  | X
Idaho Panhandle | North Fork | 147 |  |  | X |  |  | X
Idaho Panhandle | Packsaddle | 155 |  |  | X |  |  |
Idaho Panhandle | Pinchot Butte | 149 |  |  | X |  |  |
Idaho Panhandle | Roland Point | 146 |  |  | X |  |  |
Idaho Panhandle | Saddle Mountain | 154 |  |  | X |  |  |
Idaho Panhandle | Salmo-Priest | 981 | X |  |  |  |  | X
Idaho Panhandle | Schafer Peak | 160 |  |  | X | X |  |
Idaho Panhandle | Scotchman Peaks | 662 | X |  | X | X |  | X
Idaho Panhandle | Selkirk | 125 | X | X | X | X |  | X
Idaho Panhandle | Sheep Mountain-State Line | 799 |  |  | X |  |  | X
Idaho Panhandle | Skitwish Ridge | 135 |  |  | X |  |  |
Idaho Panhandle | Spion Kop | 136 |  |  | X |  |  | X
Idaho Panhandle | Stevens Peak | 142 |  |  | X |  |  |
Idaho Panhandle | Storm Creek | 144 |  |  | X |  |  |
Idaho Panhandle | Tepee Creek | 133 |  |  | X |  |  | X
Idaho Panhandle | Trestle Peak | 129 |  |  | X |  |  |
Idaho Panhandle | Trouble Creek | 138 |  |  | X |  |  | X
Idaho Panhandle | Trout Creek | 664 |  |  | X |  |  | X
Idaho Panhandle | Upper Priest | 123 |  |  | X | X |  | X
Idaho Panhandle | White Mountain | 127 |  |  | X |  |  |
Idaho Panhandle | Wonderful Peak | 152 |  |  | X |  |  |
Kootenai | Mt. Willard-Lake Estelle | 173 |  |  | X |  |  | X
Kootenai | Roberts | 691 |  |  | X |  |  |
Kootenai | Scotchman Peaks | 662 |  |  | X | X |  |
Kootenai | West Fork Elk | 692 |  |  | X |  |  |
Nez Perce | Clear Creek | 844 |  |  | X |  |  |
Nez Perce | Dixie Summit—Nut Hill | 235 |  |  | X |  |  | X
Nez Perce | East Meadow Creek | 845 |  | X |  |  |  | X
Nez Perce | Gospel Hump | 921 |  |  | X |  |  |
Nez Perce | Gospel Hump Adjacent to Wilderness |  |  |  | X |  |  |
Nez Perce | John Day | 852 |  |  | X |  |  |
Nez Perce | Lick Point | 227 |  |  | X |  |  |
Nez Perce | Little Slate Creek | 851 |  |  | X |  |  |
Nez Perce | Little Slate Creek North | 856 |  |  | X |  |  | X
Nez Perce | Mallard | 847 |  |  | X |  |  |
Nez Perce | North Fork Slate Creek | 850 |  |  | X |  |  |
Nez Perce | O'Hara—Falls Creek | 226 |  |  | X |  |  | X
Nez Perce | Rackliff—Gedney | 841 |  |  | X |  |  | X
Nez Perce | Rapid River | 922 |  | X |  |  |  | X
Nez Perce | Salmon Face | 855 |  |  | X |  |  |
Nez Perce | Selway Bitterroot (new) |  |  | X |  |  |  |
Nez Perce | Silver Creek—Pilot Knob | 849 |  |  |  |  | X |
Nez Perce | West Fork Crooked River (new) |  |  |  | X |  |  |
Nez Perce | West Meadow Creek | 845 |  |  | X |  |  | X
Payette | Big Creek Fringe | 009 |  |  | X |  |  | X
Payette | Caton Lake | 912 |  |  | X |  |  | X
Payette | Chimney Rock | 006 |  |  | X |  |  | X
Payette | Cottontail Point/Pilot Peak | 004 |  | X | X |  |  | X
Payette | Council Mountain | 018 |  | X |  |  |  | X
Payette | Crystal Mountain | 005 |  |  | X |  |  | X
Payette | Cuddy Mountain | 016 |  | X |  | X |  | X
Payette | French Creek Hells Canyon/7 Devils | 026 |  | X | X | X |  | X
Payette | Scenic | 001 |  | X |  |  |  | X
Payette | Horse Heaven | 925 |  |  | X |  |  |
Payette | Indian Creek | 019 |  | X |  |  |  |
Payette | Meadow Creek | 913 |  |  | X |  |  |
Payette | Needles | 911 | X | X | X |  |  |
Payette | Patrick Butte | 002 |  | X | X |  |  | X
Payette | Placer Creek | 008 |  | X | X |  |  | X
Payette | Poison Creek | 042 |  |  | X |  |  |
Payette | Rapid River | 922 |  | X |  |  |  | X
Payette | Secesh | 010 | X | X | X |  |  | X
Payette | Sheep Gulch | 017 |  |  | X |  |  |
Payette | Smith Creek | 007 |  | X |  |  |  |
Payette | Snowbank | 924 |  | X |  |  |  |
Payette | Sugar Mountain | 014 |  |  | X |  |  |
Salmon | Agency Creek | 512 |  |  | X |  |  |
Salmon | Allan Mountain | 946 |  |  | X |  |  | X
Salmon | Anderson Mountain | 942 |  |  | X |  |  |
Salmon | Blue Joint Mountain | 941 |  | X |  |  |  |
Salmon | Camas Creek | 901 |  |  | X |  |  |
Salmon | Deep Creek | 509 |  |  | X |  |  |
Salmon | Duck Peak | 518 |  |  | X |  |  | X
Salmon | Goat Mountain | 944 |  |  | X |  |  |
Salmon | Goldbug Ridge | 903 |  |  | X |  |  |
Salmon | Haystack Mountain | 507 |  |  | X |  |  |
Salmon | Italian Peak | 945 |  |  | X |  |  |
Salmon | Jesse Creek | 510 |  |  | X |  |  |
Salmon | Jureano | 506 |  |  | X |  |  |
Salmon | Lemhi Range | 903 |  |  | X |  |  | X
Salmon | Little Horse | 514 |  |  | X |  |  |
Salmon | Long Tom | 521 |  |  | X |  |  |
Salmon | McEleny | 505 |  |  | X |  |  |
Salmon | Musgrove | 517 |  |  | X |  |  |
Salmon | Napias | 515 |  |  | X |  |  |
Salmon | Napoleon Ridge | 501 |  |  |  | X |  | X
Salmon | Oreana | 516 |  |  | X |  |  |
Salmon | Perreau Creek | 511 |  |  |  | X |  |
Salmon | Phelan | 508 |  |  | X |  |  |
Salmon | Sal Mountain | 513 |  |  | X |  |  |
Salmon | Sheepeater | 520 |  |  | X |  |  | X
Salmon | South Deep Creek | 509 |  |  | X |  |  |
Salmon | South Panther | 504 |  |  | X |  |  |
Salmon | Taylor Mountain | 902 |  |  | X |  |  |
Salmon | West Big Hole | 943 |  | X | X |  |  | X
Salmon | West Panther Creek | 504 |  |  | X |  |  |
Sawtooth | Black Pine | 003 |  |  | X |  |  | X
Sawtooth | Blackhorse Creek | 039 |  | X |  |  |  |
Sawtooth | Boulder-White Clouds | 920 | X | X | X | X |  | X
Sawtooth | Buttercup Mountain | 038 |  | X | X |  |  |
Sawtooth | Cache Peak | 007 |  |  | X | X |  |
Sawtooth | Cottonwood | 010 |  |  | X |  |  |
Sawtooth | Elk Ridge | 019 |  | X |  |  |  |
Sawtooth | Fifth Fork Rock Creek | 023 |  | X |  | X |  |
Sawtooth | Hanson Lakes | 915 | X | X | X |  |  | X
Sawtooth | Huckleberry | 016 |  |  | X |  |  | X
Sawtooth | Liberal Mountain | 040 |  | X |  | X |  |
Sawtooth | Lime Creek | 937 |  | X |  |  |  | X
Sawtooth | Lone Cedar | 011 |  |  |  | X |  |
Sawtooth | Loon Creek | 908 |  |  | X |  |  |
Sawtooth | Mahogany Butte | 012 |  |  |  | X |  |
Sawtooth | Mount Harrison | 006 |  | X |  | X |  | X
Sawtooth | Pettit | 017 |  |  | X |  |  | X
Sawtooth | Pioneer Mountains | 921 | X | X | X | X |  | X
Sawtooth | Railroad Ridge | 922 |  |  | X |  |  | X
Sawtooth | Smoky Mountains | 914 |  | X | X |  |  | X
Sawtooth | Sublett | 005 |  | X |  |  |  |
Sawtooth | Third Fork Rock Creek | 009 |  | X |  | X |  |
Sawtooth | Thorobred | 013 |  |  | X |  |  |
Targhee | Bald Mountain | 614 |  |  | X | X |  |
Targhee | Bear Creek | 615 |  |  | X | X |  | X
Targhee | Caribou City | 161 |  |  | X |  |  |
Targhee | Diamond Peak | 601 | X | X | X | X |  | X
Targhee | Garfield Mountain | 961 |  | X | X | X |  | X
Targhee | Garns Mountain | 611 |  |  | X |  |  | X
Targhee | Italian Peak | 945 | X |  | X | X |  | X
Targhee | Lionhead | 963 | X |  | X |  |  | X
Targhee | Mt. Jefferson | 962 |  | X | X |  |  | X
Targhee | Palisades | 613 | X |  | X |  |  | X
Targhee | Poker Peak | 616 |  | X |  |  |  |
Targhee | Pole Creek | 160 |  |  | X |  |  |
Targhee | Raynolds Pass | 603 |  |  | X |  |  |
Targhee | Two Top | 604 |  | X |  |  |  |
Targhee | West Slope Tetons | 610 |  |  | X |  |  | X
Targhee | Winegar Hole | 347 |  | X |  |  |  | X
Wallowa-Whitman | Big Canyon Id | 853 |  |  | X |  |  |
Wallowa-Whitman | Klopton Creek—Corral Creek Id | 854 |  |  | X |  |  |

Dated: December 17, 2007.
Abigail R. Kimbell,
Chief, Forest Service.

[FR Doc. 07-6305 Filed 1-4-08; 8:45 am]

BILLING CODE 3410-11-P